DEPARTMENT OF COMMERCE

Bureau of Industry and Security

15 CFR Part 744

[Docket No. 240820-0222]

RIN 0694-AJ79

Revisions to the Entity List

AGENCY: Bureau of Industry and Security, Department of Commerce.

ACTION: Final rule.

SUMMARY: In this rule, the Bureau of Industry and Security (BIS) amends the Export Administration Regulations (EAR) by adding 123 entities under 131 entries to the Entity List. These entries are listed on the Entity List under the destinations of Canada (1), the People's Republic of China (China) (42), the Crimea Region of Ukraine (1), Cyprus (1), Iran (11), Kazakhstan (1), Kyrgyzstan (1), Russia (63), Turkey (8), Ukraine (1), and the United Arab Emirates (UAE) (1). Three entities are added to the Entity List under two destinations and two entities are added to the Entity List under three destinations, which accounts for the difference in the totals. These entities have been determined by the U.S. Government to be acting contrary to the national security or foreign policy interests of the United States.

DATES: This rule is effective August 27, 2024.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730 through 774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add Megatek TI Solutions, under the destination of Canada, and MAK Logistics; Megatek Ltd.; Wellgo International Industrial Limited; and Yield Bright Industrial Limited, all under the destination of China to the Entity List. These entities are added for providing U.S.-origin electronics and other items to Russian industry and military-related parties without the required BIS licenses. This activity is contrary to U.S. national security and foreign policy interests under § 744.11 of the EAR. These entities are added with a license requirement for all items subject to the EAR and a license review policy of presumption of denial.

The ERC determined to add eight entities to the Entity List: Incomp Limited, under the destination of China; All Global Trading Elektronik Dis Ticaret Ltd Sti, under the destinations of Kazakhstan, Kyrgyzstan, and Turkey; Aktsionernoe Obshchestvo Radiotekhkomplekt, Izumrud AO, and Severny Reid AO, under the destination of Russia; and ASR Trans Lojistik Ve Dis Tic Ltd Sti, BRK Uluslararasi Nakliyat Tic. Ltd. Sti, and Turkik Union Dijital Teknoloji Donusum Ofisi, under the destination of Turkey. These entities are connected to transshipment networks involved in sending sensitive U.S.-origin technology to Russia. This activity is contrary to U.S. national security and foreign policy interests under § 744.11 of the EAR. The ERC has determined that these entities qualify as Russian Procurement Entities under § 734.9(g) of the EAR and are receiving a footnote 3 designation due to their significant risk of involvement in the supply or diversion of items subject to the EAR to procurement networks for Russia's defense industry or intelligence services. A footnote 3 designation subjects these entities to the Russia/Belarus-Military End User and Procurement Foreign Direct Product (FDP) rule, detailed in § 734.9(g). These entities are added with a license requirement for all items subject to the EAR. They are added with a license review policy of denial.

The End User Review Committee determined to add two addresses, Address 09 and Address 10, under the destination of China and one address, Address 01, under the destination of Turkey to the Entity List. These addresses are associated with significant transshipment of sensitive goods to Russia. BIS has verified that these addresses are associated with a significant number of entities whose activities risk violating the EAR. These risks include associations with parties on the Entity List or the Unverified List at the listed addresses. These activities are contrary to U.S. national security and foreign policy interests under § 744.11 of the EAR. Licenses will be required for all entities at these addresses for all items that are subject to the EAR on the Commerce Control List and supplement no. 7 of part 746 of the EAR. License applications will be reviewed with a license review policy of presumption of denial.

The ERC determined to add the following 34 entities to the Entity List: 3-K Electronics Limited; AllChips Limited; Chipgoo Electronics Limited; Cinty Int'l (HK) Industry Co., Limited; Cloudmax Tech Co., Limited; DGT Technology (HK) Co., Limited; Eastech Electronics Limited; Furuida Heilongjiang Supply Chain Management Co., Ltd.; Grun Group Co., Limited; Hongkong Inkson Technology Limited; Hong Kong Haiheng Electronics Co. Ltd.; Hong Kong Qisu Electronic Technology Co. Ltd.; Hong Kong Yayang Trading Ltd.; Hytera Communications Limited; ICsole Technology Limited; Kvantek Limited; Lett Tronic Group Limited; LL Electronic Limited; Mei Xin Electronic (HK) Co., Limited; Midas Lighting Limited; Minhoo Logistics Limited; O-Nice Trading Co. Limited; Piraclinos Limited; RYX Electronic (HK) Limited; Shenzhen Bailiansheng Electronic Science and Technology Co., Ltd; Shenzhen BZ Space Technology Co., Ltd.; Shenzhen Dongpengshang Electronics Co., Ltd.; Shenzhen SCH Technology Co., Ltd.; Siliborn Technology Limited; Superchip Limited; Tengxuxing Electronic Technology HK Limited; and Yusha Group Co. Ltd. under the destination of China; Merlion Trade Worldwide Ltd. under the destination of Cyprus; and Confienza Pazarlama Ve Ticaret Anonim Sirketi under the destination of Turkey. These entities are added for continuing to procure or attempting to procure items in support of Russia's military and/or defense industrial base. Specifically, these 34 entities have supplied U.S.-origin and U.S.-branded components on behalf of Russian entities that have been sanctioned since Russia's full-scale invasion of Ukraine or are otherwise linked to the Russian defense industrial base. This activity is contrary to U.S. national security and foreign policy interests under § 744.11 of the EAR. The ERC has determined that these entities qualify as Russian Procurement Entities under § 734.9(g) of the EAR and are receiving a footnote 3 designation due to their significant risk of involvement in the supply or diversion of items subject to the EAR to procurement networks for Russia's defense industry or intelligence services. A footnote 3 designation subjects these entities to the Russia/Belarus-Military End User and Procurement Foreign Direct Product (FDP) rule, as detailed in § 734.9(g) of the EAR. These entities are added with a license requirement for all items subject to the EAR. They are added with a license review policy of denial.

The ERC determined to add eleven entities under the destination of Iran to the Entity List for actions contrary to the national security or foreign policy interests of the United States: Arvin Fan Avar Vira Company; BuyBest Electronic; Digi Ghate; Fidar System Pooyan; General Electronic; IC Kala; Iran Compo Co.; Javan Electronic Company; SkyTech Electronic; Tehran Pishro Trading Co.; and Zagros Electronic. BuyBest Electronic is also being listed under the destinations of China and Turkey, and Tehran Pishro Trading Co. is also listed under the destinations of China and the United Arab Emirates. These eleven entities under fifteen entries are connected to the supply of, or attempts to supply, U.S.-origin items to Iran, some of which are Tier 1 items on the Common High Priority List of items needed by Russia's military to sustain its brutal attack on Ukraine. (See https://www.bis.doc.gov/index.php/all-articles/13-policy-guidance/country-guidance/2172-russia-export-controls-list-of-common-high-priority-items.) This activity is contrary to U.S. national security and foreign policy interests under § 744.11 of the EAR. These entities are added with a license requirement for all items subject to the EAR and a license review policy of presumption of denial.

The ERC determined to add the following 48 entities under the destination of Russia to the Entity List: Complex Unmanned Solutions Center LTD; Federal Government Budget Institution State Institute for Experimental Military Medicine; Federal State Enterprise Aleksinsky Chemical Plant; Federal State Enterprise Kamenksy Combine; Federal State Enterprise Perm Powder Plant; Joint Stock Company 75 Arsenal; Joint Stock Company 419 Aircraft Repair Plant; Joint Stock Company Astrophysika National Centre of Laser Systems and Complexes; Joint Stock Company Aviation Reducers and Transmissions—Perm Motors; Joint Stock Company Central Design Bureau of Apparatus Engineering; Joint Stock Company Class; Joint Stock Company Dubnenskiy Machine-Building Plant named after N. P. Fedorova; Joint Stock Company Eirburg; Joint Stock Company Electroavtomatika; Joint Stock Company Gazprom Space Systems; Joint Stock Company Helicopter Service Company; Joint Stock Company Institute of Applied Physics; Joint Stock Company Jupiter Plant; Joint Stock Company Kumertau Aviation Production Enterprise; Joint Stock Company M.V. Frunze Arsenal Design Bureau; Joint Stock Company National Helicopter Construction Center named after M.L. Mil and N.I. Kamov; Joint Stock Company ODK-Klimov; Joint Stock Company Polimer; Joint Stock Company Progress Arsenyev Aviation Company; Joint Stock Company Radioavionika; Joint Stock Company Research Production Association Kurganpribor; Joint Stock Company Scientific-Technical Center for Electronic Warfare; Joint Stock Company Strommashina Shield; Joint Stock Company Verkhneturinsky Machine Building Plant; Joint Stock Company VNIIR-Progress; Joint Stock Company Volsk Mechanical Plant; Joint Stock Company Zavod Korpusov; Limited Liability Company Eliars; Limited Liability Company Hotu Tent; Limited Liability Company K.ARMA; Limited Liability Company Laggar Pro; Limited Liability Company Lipetsk Mechanical Plant; Limited Liability Company Moscow Arms Company; Limited Liability Company NPK Aerokon; Limited Liability Company Plaz; Limited Liability Company Research and Production Company Makrooptika; Limited Liability Company Special Design and Technology Bureau Plastic; Limited Liability Company Zavod Spetsagregat; Open Joint Stock Company Aero Engine Scientific and Technical Company Soyuz; Open Joint Stock Company Balashikhinskiy Liteyno Mekhanicheskiy Zavod; Open Joint Stock Company Machine Building Plant Arsenal; Public Joint Stock Company Taganrog Aviation Scientific-Technical Complex named after G.M. Beriev; and Public Joint Stock Company UEC-Ufa Engine Industrial Association. The ERC also determined to add Joint Stock Company Design Bureau of Navigation Systems under the destinations of Russia and Ukraine, and, under the destinations of the Crimea Region of Ukraine and Russia, Joint Stock Company Special Research Bureau of Moscow Power Engineering Institute. BIS, under § 744.8 of the EAR, imposes license requirements for certain entities on the U.S. Department of the Treasury, Office of Foreign Assets Control's List of Specially Designated Nationals and Blocked Persons (SDN List). These entities have been designated pursuant to E.O. 14024. As such, they are already subject to a license requirement for all items subject to the EAR, pursuant to § 744.8(a)(1)(i)(C). However, these additions to the Entity List are being made because the ERC has determined that they are Russian or Belarusian `military end users' pursuant to § 744.21. The ERC has determined that these entities are involved in the development, design, production, or maintenance of weapons systems or other items used by the Russian military. A footnote 3 designation subjects these entities to the Russia/Belarus-Military End User and Procurement FDP rule, as detailed in § 734.9(g) of the EAR. Entities subject to § 744.8's license requirements are not subject to the Russia/Belarus-Military End User and Procurement FDP rule, so these entities are being added specifically pursuant to § 744.21. These entities are added with a license requirement for all items subject to the EAR and a license review policy of denial for all items subject to the EAR apart from food and medicine designated as EAR99, which will be reviewed on a case-by-case basis.

The ERC determined to add six entities, all under the destination of Russia, to the Entity List: OOO Alabuga Development; JSC SEZ PPT Alabuga; OOO GEA; LLC Drake; LLC Alabuga Machinery; and LLC Alabuga Exim. Since February 24, 2022, BIS has implemented a series of stringent export controls that restrict Russia's access to the technologies and other items that it needs to sustain its illegal war in Ukraine. As a result of these enhanced export controls, Russia has sought assistance from Iran to develop and construct an unmanned aerial vehicle (UAV) production facility in its “Alabuga Special Economic Zone.” This facility is intended to produce thousands of Shahed-136 drones in support of Russia's war effort against Ukraine. These additions are being made because these entities are tied to, have supplied, or have partnered with Russia's unmanned aerial vehicle (UAV) program, the Alabuga Special Economic Zone, and/or Russia's military-industrial complex. This activity is contrary to U.S. national security and foreign policy interests under § 744.11 and these entities qualify as military end users under § 744.21 of the EAR. These entities are receiving a footnote 3 designation because the ERC has determined that they are Russian or Belarusian `military end users' pursuant to § 744.21. A footnote 3 designation subjects these entities to the Russia/Belarus-Military End User and Procurement FDP rule, detailed in § 734.9(g). The entities are added with a license requirement for all items subject to the EAR and a license review policy of denial for all items subject to the EAR apart from food and medicine as EAR99, which will be reviewed on a case-by-case basis.

The ERC determined to add four entities: Limited Liability Company Analytical Manufactory; Limited Liability Company Eluent Laboratories; Limited Liability Company Medstandart; and Limited Liability Company Rusmedtorg, under the destination of Russia, and one entity, Biopharmist Medikal Urunler Dis Ticaret LTD STI, under the destination of Turkey, to the Entity List. On June 12, 2024, these entities were designated by the U.S. Department of Treasury's Office of Foreign Assets Control under Executive Order 14024. BIS imposes a license requirement under § 744.8 of the EAR for the export, reexport, and transfer (in-country) of all items subject to the EAR when a person, who is a party to a transaction, is designated on the SDN List with a specified identifier. These additions are being made because the ERC has determined that these entities are Russian or Belarusian `military end users' pursuant to § 744.21 of the EAR. A footnote 3 designation subjects these entities to the Russia/Belarus-Military End User and Procurement FDP rule, detailed in § 734.9(g). These entities are added with a license requirement for all items subject to the EAR and a license review policy of denial for all items subject to the EAR apart from food and medicine designated as EAR99, which will be reviewed on a case-by-case basis.

The End User Review Committee determined to add one address, Address 11, under the destination of China to the Entity List. This address is associated with significant transshipment of sensitive goods to Russia. BIS has verified that this address is associated with a significant number of entities whose activities risk violating the EAR. These risks include associations with parties on the U.S. Department of the Treasury's Specially Designated Nationals (SDN) List or parties that have been subject to end use checks that were deemed unverified. These activities are contrary to U.S. national security and foreign policy interests under § 744.11 of the EAR. Licenses will be required for all entities at these addresses for all items on the Commerce Control List and supplement no. 7 of part 746 of the EAR and subject to the EAR. License applications will be reviewed with a license review policy of presumption of denial.

For the reasons described above, this final rule adds the following 123 entities under 131 entries to the Entity List and includes, where appropriate, aliases:

Canada

• Megatek TI Solutions.

China

• 3-K Electronics Limited,

• Address 09,

• Address 10,

• Address 11,

• AllChips Limited,

• BuyBest Electronic,

• Chipgoo Electronics Limited,

• Cinty Int'l (HK) Industry Co., Limited,

• Cloudmax Tech Co., Limited,

• DGT Technology (HK) Co., Limited,

• Eastech Electronics Limited,

• Furuida Heilongjiang Supply Chain Management Co., Ltd.,

• Grun Group Co., Limited,

• Hong Kong Haiheng Electronics Co. Ltd.,

• Hong Kong Qisu Electronic Technology Co. Ltd.,

• Hong Kong Yayang Trading Ltd.,

• Hongkong Inkson Technology Limited,

• Hytera Communications Limited,

• ICsole Technology Limited,

• Incomp Limited,

• Kvantek Limited,

• Lett Tronic Group Limited,

• LL Electronic Limited,

• MAK Logistics,

• Megatek Ltd.,

• Mei Xin Electronic (HK) Co., Limited,

• Midas Lighting Limited,

• Minhoo Logistics Limited,

• O-Nice Trading Co. Limited,

• Piraclinos Limited,

• RYX Electronic (HK) Limited,

• Shenzhen Bailiansheng Electronic Science and Technology Co., Ltd,

• Shenzhen BZ Space Technology Co., Ltd.,

• Shenzhen Dongpengshang Electronics Co., Ltd.,

• Shenzhen SCH Technology Co., Ltd.,

• Siliborn Technology Limited,

• Superchip Limited,

• Tehran Pishro Trading Co.,

• Tengxuxing Electronic Technology HK Limited,

• Wellgo International Industrial Limited,

• Yield Bright Industrial Limited, and

• Yusha Group Co. Ltd.

Crimea Region of Ukraine

• Joint Stock Company Special Research Bureau of Moscow Power Engineering Institute.

Cyprus

• Merlion Trade Worldwide Ltd.

Iran

• Arvin Fan Avar Vira Company,

• BuyBest Electronic,

• Digi Ghate,

• Fidar System Pooyan,

• General Electronic,

• IC Kala,

• Iran Compo Co.,

• Javan Electronic Company,

• SkyTech Electronic,

• Tehran Pishro Trading Co., and

• Zagros Electronic.

Kazakhstan

• All Global Trading Elektronik Dis Ticaret Ltd Sti.

Kyrgyzstan

• All Global Trading Elektronik Dis Ticaret Ltd Sti.

Russia

• Aktsionernoe Obshchestvo Radiotekhkomplekt,

• Complex Unmanned Solutions Center LTD,

• Federal Government Budget Institution State Institute for Experimental Military Medicine,

• Federal State Enterprise Aleksinsky Chemical Plant,

• Federal State Enterprise Kamenksy Combine,

• Federal State Enterprise Perm Powder Plant,

• Izumrud AO,

• Joint Stock Company 75 Arsenal,

• Joint Stock Company 419 Aircraft Repair Plant,

• Joint Stock Company Astrophysika National Centre of Laser Systems and Complexes,

• Joint Stock Company Aviation Reducers and Transmissions—Perm Motors,

• Joint Stock Company Central Design Bureau of Apparatus Engineering,

• Joint Stock Company Class,

• Joint Stock Company Design Bureau of Navigation Systems,

• Joint Stock Company Dubnenskiy Machine-Building Plant named after N. P. Fedorova,

• Joint Stock Company Eirburg,

• Joint Stock Company Electroavtomatika,

• Joint Stock Company Gazprom Space Systems,

• Joint Stock Company Helicopter Service Company,

• Joint Stock Company Institute of Applied Physics,

• Joint Stock Company Jupiter Plant,

• Joint Stock Company Kumertau Aviation Production Enterprise,

• Joint Stock Company M.V. Frunze Arsenal Design Bureau,

• Joint Stock Company National Helicopter Construction Center named after M.L. Mil and N.I. Kamov,

• Joint Stock Company ODK-Klimov,

• Joint Stock Company Polimer,

• Joint Stock Company Progress Arsenyev Aviation Company,

• Joint Stock Company Radioavionika,

• Joint Stock Company Research Production Association Kurganpribor,

• Joint Stock Company Scientific-Technical Center for Electronic Warfare,

• Joint Stock Company Special Research Bureau of Moscow Power Engineering Institute,

• Joint Stock Company Strommashina Shield,

• Joint Stock Company Verkhneturinsky Machine Building Plant,

• Joint Stock Company VNIIR-Progress,

• Joint Stock Company Volsk Mechanical Plant,

• Joint Stock Company Zavod Korpusov,

• JSC SEZ PPT Alabuga,

• Limited Liability Company Analytical Manufactory,

• Limited Liability Company Eliars,

• Limited Liability Company Eluent Laboratories,

• Limited Liability Company Hotu Tent,

• Limited Liability Company K.ARMA,

• Limited Liability Company Laggar Pro,

• Limited Liability Company Lipetsk Mechanical Plant,

• Limited Liability Company Medstandart,

• Limited Liability Company Moscow Arms Company,

• Limited Liability Company NPK Aerokon,

• Limited Liability Company Plaz,

• Limited Liability Company Research and Production Company Makrooptika,

• Limited Liability Company Rusmedtorg,

• Limited Liability Company Special Design and Technology Bureau Plastic,

• Limited Liability Company Zavod Spetsagregat,

• LLC Alabuga Exim,

• LLC Alabuga Machinery,

• LLC Drake,

• OOO Alabuga Development,

• OOO GEA,

• Open Joint Stock Company Aero Engine Scientific and Technical Company Soyuz,

• Open Joint Stock Company Balashikhinskiy Liteyno Mekhanicheskiy Zavod,

• Open Joint Stock Company Machine Building Plant Arsenal,

• Public Joint Stock Company Taganrog Aviation Scientific-Technical Complex named after G.M. Beriev,

• Public Joint Stock Company UEC-Ufa Engine Industrial Association, and

• Severny Reid AO.

Turkey

• Address 01,

• All Global Trading Elektronik Dis Ticaret Ltd Sti,

• ASR Trans Lojistik Ve Dis Tic Ltd Sti,

• Biopharmist Medikal Urunler Dis Ticaret LTD STI,

• BRK Uluslararasi Nakliyat Tic. Ltd. Sti,

• BuyBest Electronic,

• Confienza Pazarlama Ve Ticaret Anonim Sirketi, and

• Turkik Union Dijital Teknoloji Donusum Ofisi.

Ukraine

• Joint Stock Company Design Bureau of Navigation Systems.

United Arab Emirates

• Tehran Pishro Trading Co.

Savings Clause

For the changes being made in this final rule, shipments of items removed from eligibility for a License Exception or export, reexport, or transfer (in-country) without a license (NLR) as a result of this regulatory action that were en route aboard a carrier to a port of export, reexport, or transfer (in-country), on August 27, 2024, pursuant to actual orders for export, reexport, or transfer (in-country) to or within a foreign destination, may proceed to that destination under the previous eligibility for a License Exception or export, reexport, or transfer (in-country) without a license (NLR) before September 26, 2024. Any such items not actually exported, reexported, or transferred (in-country) before midnight, on September 26, 2024, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable.

Accordingly, no regulatory flexibility analysis is required, and none has been prepared.

List of Subjects in 15 CFR Part 744

Exports, Reporting and recordkeeping requirements, Terrorism.

Accordingly, part 744 of the Export Administration Regulations (15 CFR parts 730 through 774) is amended as follows:

PART 744—CONTROL POLICY: END-USER AND END-USE BASED

1. The authority citation for 15 CFR part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 7, 2023, 88 FR 62439 (September 11, 2023); Notice of November 1, 2023, 88 FR 75475 (November 3, 2023).

2. Supplement no. 4 to part 744 is amended:

a. Under CANADA, by adding, in alphabetical order, an entry for “Megatek TI Solutions”;

b. Under CHINA, PEOPLE'S REPUBLIC OF by adding, in alphabetical order, entries for “3-K Electronics Limited;” “Address 09;” “Address 10;” “Address 11;” “AllChips Limited;” “BuyBest Electronic;” “Chipgoo Electronics Limited;” “Cinty Int'l (HK) Industry Co., Limited;” “Cloudmax Tech Co., Limited;” “DGT Technology (HK) Co., Limited;” “Eastech Electronics Limited;” “Furuida Heilongjiang Supply Chain Management Co., Ltd.;” “Grun Group Co., Limited;” “Hong Kong Haiheng Electronics Co. Ltd.;” “Hong Kong Qisu Electronic Technology Co. Ltd.;” “Hong Kong Yayang Trading Ltd.;” “Hongkong Inkson Technology Limited;” “Hytera Communications Limited;” “ICsole Technology Limited;” “Incomp Limited;” “Kvantek Limited;” “Lett Tronic Group Limited;” “LL Electronic Limited;” “MAK Logistics;” “Megatek Ltd.;” “Mei Xin Electronic (HK) Co., Limited;” “Midas Lighting Limited;” “Minhoo Logistics Limited;” “O-Nice Trading Co. Limited;” “Piraclinos Limited;” “RYX Electronic (HK) Limited;” “Shenzhen Bailiansheng Electronic Science and Technology Co., Ltd;” “Shenzhen BZ Space Technology Co., Ltd.;” “Shenzhen Dongpengshang Electronics Co., Ltd.;” “Shenzhen SCH Technology Co., Ltd.;” “Siliborn Technology Limited;” “Superchip Limited;” “Tehran Pishro Trading Co.;” “Tengxuxing Electronic Technology HK Limited;” “Wellgo International Industrial Limited;” “Yield Bright Industrial Limited;” and “Yusha Group Co. Ltd.”;

c. Under CRIMEA REGION OF UKRAINE by adding, in alphabetical order, an entry for “Joint Stock Company Special Research Bureau of Moscow Power Engineering Institute;”

d. Under CYPRUS by adding, in alphabetical order, an entry for “Merlion Trade Worldwide Ltd.;”

e. Under IRAN by adding, in alphabetical order, entries for “Arvin Fan Avar Vira Company;” “BuyBest Electronic;” “Digi Ghate;” “Fidar System Pooyan;” “General Electronic;” “IC Kala;” “Iran Compo Co.;” “Javan Electronic Company;” “SkyTech Electronic;” “Tehran Pishro Trading Co.;” and “Zagros Electronic;”

f. Under KAZAKHSTAN by adding, in alphabetical order, entries for “All Global Trading Elektronik Dis Ticaret Ltd Sti;”

g. Under KYRGYZSTAN by adding, in alphabetical order, entries for “All Global Trading Elektronik Dis Ticaret Ltd Sti;”

h. Under RUSSIA by adding, in alphabetical order, entries for “Aktsionernoe Obshchestvo Radiotekhkomplekt;” “Complex Unmanned Solutions Center LTD;” “Federal Government Budget Institution State Institute for Experimental Military Medicine;” “Federal State Enterprise Aleksinsky Chemical Plant;” “Federal State Enterprise Kamenksy Combine;” “Federal State Enterprise Perm Powder Plant;” “Izumrud AO;” “Joint Stock Company 75 Arsenal;” “Joint Stock Company 419 Aircraft Repair Plant;” “Joint Stock Company Astrophysika National Centre of Laser Systems and Complexes;” “Joint Stock Company Aviation Reducers and Transmissions—Perm Motors;” “Joint Stock Company Central Design Bureau of Apparatus Engineering;” “Joint Stock Company Class;” “Joint Stock Company Design Bureau of Navigation Systems;” “Joint Stock Company Dubnenskiy Machine-Building Plant named after N. P. Fedorova;” “Joint Stock Company Eirburg;” “Joint Stock Company Electroavtomatika;” “Joint Stock Company Gazprom Space Systems;” “Joint Stock Company Helicopter Service Company;” “Joint Stock Company Institute of Applied Physics;” “Joint Stock Company Jupiter Plant;” “Joint Stock Company Kumertau Aviation Production Enterprise;” “Joint Stock Company M.V. Frunze Arsenal Design Bureau;” “Joint Stock Company National Helicopter Construction Center named after M.L. Mil and N.I. Kamov;” “Joint Stock Company ODK-Klimov;” “Joint Stock Company Polimer;” “Joint Stock Company Progress Arsenyev Aviation Company;” “Joint Stock Company Radioavionika;” “Joint Stock Company Research Production Association Kurganpribor;” “Joint Stock Company Scientific-Technical Center for Electronic Warfare;” “Joint Stock Company Special Research Bureau of Moscow Power Engineering Institute;” “Joint Stock Company Strommashina Shield;” “Joint Stock Company Verkhneturinsky Machine Building Plant;” “Joint Stock Company VNIIR-Progress;” “Joint Stock Company Volsk Mechanical Plant;” “Joint Stock Company Zavod Korpusov;” “JSC SEZ PPT Alabuga;” “Limited Liability Company Analytical Manufactory;” “Limited Liability Company Eliars;” “Limited Liability Company Eluent Laboratories;” “Limited Liability Company Hotu Tent;” “Limited Liability Company K.ARMA;” “Limited Liability Company Laggar Pro;” “Limited Liability Company Lipetsk Mechanical Plant;” “Limited Liability Company Medstandart;” “Limited Liability Company Moscow Arms Company;” “Limited Liability Company NPK Aerokon;” “Limited Liability Company Plaz;” “Limited Liability Company Research and Production Company Makrooptika;” “Limited Liability Company Rusmedtorg;” “Limited Liability Company Special Design and Technology Bureau Plastic;” “Limited Liability Company Zavod Spetsagregat;” “LLC Alabuga Exim;” “LLC Alabuga Machinery;” “LLC Drake;” “OOO Alabuga Development;” “OOO GEA;” “Open Joint Stock Company Aero Engine Scientific and Technical Company Soyuz;” “Open Joint Stock Company Balashikhinskiy Liteyno Mekhanicheskiy Zavod;” “Open Joint Stock Company Machine Building Plant Arsenal;” “Public Joint Stock Company Taganrog Aviation Scientific-Technical Complex named after G.M. Beriev;” “Public Joint Stock Company UEC-Ufa Engine Industrial Association;” and “Severny Reid AO;”

i. Under TURKEY by adding, in alphabetical order, entries for “Address 01;” “All Global Trading Elektronik Dis Ticaret Ltd Sti;” “ASR Trans Lojistik Ve Dis Tic Ltd Sti;” “Biopharmist Medikal Urunler Dis Ticaret LTD STI;” “BRK Uluslararasi Nakliyat Tic. Ltd. Sti;” “BuyBest Electronic;” “Confienza Pazarlama Ve Ticaret Anonim Sirketi;” and “Turkik Union Dijital Teknoloji Donusum Ofisi;”

j. Under UKRAINE by adding in alphabetical order, an entry for “Joint Stock Company Design Bureau of Navigation Systems;” and

k. Under UNITED ARAB EMIRATES by adding in alphabetical order, an entry for “Tehran Pishro Trading Co.”

The additions read as follows:

Supplement No. 4 to Part 744—Entity List

* * * * *

Country | Entity | License requirement | License review policy | Federal Register citation
* * * * * * *
CANADA | * * * * * *
| Megatek TI Solutions, a.k.a., the following one alias: —Megatek IT Solutions. 4600 Avenue Colomb, #604, Brossard, Quebec, Canada. | For all items subject to the EAR. (See § 744.11 of the EAR) | Presumption of denial | 89 FR [INSERT FR PAGE NUMBER AND 8/27/2024].
| * * * * * *
CHINA, PEOPLE'S REPUBLIC OF | * * * * * *
| 3-K Electronics Limited, a.k.a., the following one alias: —3-K Semiconductors Limited. A15, Shenfang Building, Huaqiang North Road, Futian District, Shenzhen, Guangdong, 518031, China; and A105, 1/F, New East Sun Industrial Building, 18 Shing Yip Street, Kwun Tong, Kowloon, Hong Kong; and Room 101a, 1/F, Genplas Industrial Building, 56 Hoi Yuen Road, Kwun Tong, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Address 09, Room 1003, 10/F, Lippo Centre Tower 1, 89 Queensway, Admiralty, Hong Kong. | For items on the CCL and EAR99 items listed in supplement no. 7 to part 746 of the EAR. | Presumption of denial | 89 FR [INSERT FR PAGE NUMBER AND 8/27/2024].
| Address 10, 7/F MW Tower, 111 Bonham Strand, Sheung Wan, Hong Kong. | For items on the CCL and EAR99 items listed in supplement no. 7 to part 746 of the EAR. | Presumption of denial | 89 FR [INSERT FR PAGE NUMBER AND 8/27/2024].
| Address 11, Office 704, 135 Bonham Strand, Sheung Wan, Hong Kong. | For items on the CCL and EAR99 items listed in supplement no. 7 to part 746 of the EAR. | Presumption of denial | 89 FR [INSERT FR PAGE NUMBER AND 8/27/2024].
| * * * * * *
| Allchips Limited, a.k.a., the following sixteen aliases: —Shenzhen Allchips Co., Ltd; —Allchips Group Limited; —Shenzhen Yingzhicheng Information Technology Co., Ltd; —Shenzhen Yingyuan Zhizao Digital Technology Co., Ltd; —Shenzhen Yingke Digital Technology Co., Ltd; —Shenzhen Xinqiqi Technology Co., Ltd; —Shenzhen Xinwuzhong Technology Co., Ltd; —Zhejiang Yingkepai Digital Technology Co., Ltd; —Shenzhen Yingzhicheng Information Technology Co., Ltd; —Shenzhen Yingjie Wisdom Supply Chain Co., Ltd; —Shenzhen Yingjie Technology Co., Ltd; —Shenzhen Forsea Allchips Information & Technology Co., Ltd; —Shenzhen Qianhai Hard City Information Technology Co., Ltd; —Shenzhen Qianhai Yingzhicheng Information Technology Company Limited; —PCBA Online; and —YYFab. | For all items subject to the EAR (See §§ 734.9(g),³ 746.8(a)(3), and 744.11 of the EAR) | Policy of denial for all items subject to the EAR. See § 746.8(b). | 89 FR [INSERT FR PAGE NUMBER AND 8/27/2024].
| 20th Floor, E Times, No.159 Heng Road, North of Pingji Avenue, Longgang District, Shenzhen, Guangdong, China; and Room 806, 8/F Hang Bong Commercial Centre Jordan, Kowloon, Hong Kong; and 902, Building 3, Shenzhen New Generation Industrial Park, 136 Zhongkang Road, Meidu Community, Meilin Subdistrict, Futian District, Shenzhen, Guangdong, China; and Room 1205, 12th Floor, Siu Wai Industrial Building, 29-33 Wing Hong Street, Kowloon, Hong Kong; and No. 51 Lexin Road, Xinmu Community, Pinghu Subdistrict, Longgang District, Shenzhen, Guangdong, China; and 4th Floor, Tower A, Dongsheng Building, No. 8 Zhongguancun East Road, Haidian District, Beijing, China; and Room 1601, No.238, Jiangchang 3rd Road, Jing'an District, Shanghai, China; and Room 301, 3rd Floor, Pinghu Pioneer Park, Zhongxinbao Group, Fuchengao Community, Pinghu Subdistrict, Longgang District, Shenzhen, Guangdong, China.
| * * * * * *
| BuyBest Electronic, a.k.a., the following three aliases: —Buy Best Electronic Pars; —Buybest Elektronik İthalat İhracat Limited Şirketi; and —Andriman Group İnşaat İthalat İhracat Sanayi Ve Ticaret Limited Şirketi. 1201 Room, Guo Li Building, Zhonghang Road, Futian District, Shenzhen, China. (See alternate addresses under Iran and Turkey.) | For all items subject to the EAR. (See § 744.11 of the EAR) | Presumption of denial | 89 FR [INSERT FR PAGE NUMBER AND 8/27/2024].
| * * * * * *
| Chipgoo Electronics Limited, a.k.a., the following seven aliases: —Chipgoo; —Chipgoo Technology; —Endezo Technology (Hong Kong) Limited; —Endezo Technology; —Endezo; —Shenzhen Yindezhou Technology Co., Ltd.; and —Shenzhen Yindezhou Technology. Unit 318 (WL602), 3rd Floor, Sunbeam Centre, 27 Shing Yip St, Kwun Tong, Kowloon, Hong Kong; and Rm A29, 24th Floor, Regent's Park Prince Industrial Building, 706 Prince Edward Rd. East, Kowloon, Hong Kong; and Room 13, 27/F, Ho King Commercial Center, 2-16 Fa Yuen Street, Mong Kok, Kowloon, Hong Kong; and Room G, 26th Floor, Hangdu Building, No. 1006 Haufu Road, Futian District, Shenzhen, China; and Room 1223, New Asia Guoli Building, Zhonghang Road, Huaqiang North Subdistrict, Futian, Shenzhen, China. | For all items subject to the EAR (See §§ 734.9(g),³ 746.8(a)(3), and 744.11 of the EAR) | Policy of denial for all items subject to the EAR. See § 746.8(b). | 89 FR [INSERT FR PAGE NUMBER AND 8/27/2024].
| * * * * * *
| Cinty Int'l (HK) Industry Co., Limited, a.k.a., the following five aliases: —Cinty International HK Industry Co. Ltd.; —Cinty Int'l HK Industry Co., Ltd.; —HK Cinty Co., Limited; —Cinty Semiconductor Limited; and —HKCinty Electronics. Rm 3008-3009, Block A, Jiahe Huaqiang Bulding, Shennan Road, Huaqiangbei Neighborhood, Futian District, Shenzhen, Guangdong, 518039, China; and Office No.3, 10/F, Witty Commercial Building, 1A-1L Tung Choi Street, Mong Kok, Kowloon, Hong Kong; and Rm 1808, Dynamic World Building, Zhonghang Rd., Shenzhen, Guangdong, 518031, China; and Room 2208, LeiZhen Building, 40 Fuming Rd., Futian District, Shenzhen, Guangdong, 518031, China. | For all items subject to the EAR (See §§ 734.9(g),³ 746.8(a)(3), and 744.11 of the EAR) | Policy of denial for all items subject to the EAR. See § 746.8(b). | 89 FR [INSERT FR PAGE NUMBER AND 8/27/2024].
| Cloudmax Tech Co., Limited, a.k.a., the following one alias: —YSX Tech Co., Limited. Room 1316-1318, Metropolitan Heights at Century Place, Du Hui Xuan Building, Zhong Hang Road, Futian District, Shenzhen, Guangdong, 518031, China; and Room A, 15/F, Goldfield Industrial Building, 144-150 Tai Lin Pai Road, Kwai Chung, Hong Kong; and 2/F, Block 6, No.2 Robot Industrial Park, 8th Road, Yangchung Industrial Zone, Shapu Community, Songgang Subdistrict, Bao'an District, Shenzhen, Guangdong, 518105, China; and Wonderful Life Building, No. 4 Donghai Rd, Yantian District, Shenzhen, Guangdong, 518083, China; and Ko Fai Industrial Building, No.7 Ko Fai Road, Yau Tong, Kowloon, Hong Kong; and 1/F, Block 1, Zhuguang Chuangxin Technology Park, Zhuguang Road, Xili Subdistrict, Nanshan District, Shenzhen, Guangdong, 518055, China; and Room 2404, Du Hui Xuan Building, Zhong Hang Road, Futian District, Shenzhen, Guangdong, 518031, China. | For all items subject to the EAR (See §§ 734.9(g),³ 746.8(a)(3), and 744.11 of the EAR) | Policy of denial for all items subject to the EAR. See § 746.8(b). | 89 FR [INSERT FR PAGE NUMBER AND 8/27/2024].
| * * * * * *
| DGT Technology (HK) Co., Limited, a.k.a., the following two aliases: —DGT Technology HK Co., Limited; and —DGT Technology. Room 5303, SEG Plaza, Huaqiang North Road, Futian District, Shenzhen, Guangdong, 518027, China; and Room 5258, 52nd Floor, Huaqiang North Road, Futian District, Shenzhen, Guangdong, China; and Room 803, Chevalier House, 45-51 Chatham Road South, Tsim Sha Tsui, Kowloon, Hong Kong; and Room 836, 8/F, Beverley Commercial Centre, 87-105 Chatham Road South, Tsim Sha Tsui, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Eastech Electronics Limited, a.k.a., the following seven aliases: —Eastech Electronics Ltd.; —Eastech Electronics; —Shenzhen East Technology Limited; —Shenzhen Yitai Technology Co., Ltd.; —Yitai Technology; —Yitai International Electronics Co., Ltd.; and —EASTECH. Room 17F, Block A Huaqiang Square, No.1019 Huaqiang North Road, Futian District, Shenzhen, Guangdong, China; and Room 12F, Block A, Duhui 100 Building, Zhonghang Road, Futian District, Shenzhen, Guangdong, China; and Room 2703, Tower West, Hangyuan Building, No.175 Zhenhua Road, Futian District, Shenzhen, Guangdong, China; and Room B5, 1/F, Manning Industrial Building, 116-118 How Ming St., Kwun Tong, Hong Kong; and Room 32, 11/F, Lee Ka Industrial Building, 8 Ng Fong Street, San Po Kong, Kowloon, Hong Kong; and Workshop 60, 3/F, Block A, East Sun Industrial Centre, 16 Shing Yip Street, Kwun Tong, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Furuida Heilongjiang Supply Chain Management Co., Ltd., Room 803-773, Floor 8, Building 10, Harbin Songbei Technology Chuangxin Industrial Zone, 3043 Zhigu 2nd Street, Songbei District, Harbin, Heilongjiang, 15000, China. | For all items subject to the EAR (See §§ 734.9(g),³ 746.8(a)(3), and 744.11 of the EAR) | Policy of denial for all items subject to the EAR. See § 746.8(b). | 89 FR [INSERT FR PAGE NUMBER AND 8/27/2024].
| * * * * * *
| Grun Group Co., Limited, Room 04, 16th Floor, Ho King Commercial Centre, 2-16 Fa Yuen St, Mong Kok, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Hong Kong Haiheng Electronics Co. Ltd., a.k.a., the following two aliases: —Heiheng Electronics; and —HK Haiheng Electronics. Room 04, 16/F, Ho King Commercial Centre, 2-16 Fa Yuen Street, Mong Kok, Kowloon, Hong Kong; and 11C05, 11/F, Maoye Department Store Building, Wenxin 2nd Road, Haizhu Community, Yuehai Street, Nanshan District, Shenzhen, 518000, China. | For all items subject to the EAR (See §§ 734.9(g),³ 746.8(a)(3), and 744.11 of the EAR) | Policy of denial for all items subject to the EAR. See § 746.8(b). | 89 FR [INSERT FR PAGE NUMBER AND 8/27/2024].
| Hong Kong Qisu Electronic Technology Co. Ltd., Room 12G, Block A, Guangbo Modern Window Building, 1058 Huaqiang North Road, Futian District, Shenzhen, Guangdong, 518028, China; and Room 705, 7th Floor, Aa Yuen Commercial Building, 75-77 Fa Yuen St., Mong Kok, Hong Kong; and Room 2321, Block A, Guangbo Modern Window Building, 1058 Huaqiang North Road, Futian District, Shenzhen, Guangdong, 518028, China. | For all items subject to the EAR (See §§ 734.9(g),³ 746.8(a)(3), and 744.11 of the EAR) | Policy of denial for all items subject to the EAR. See § 746.8(b). | 89 FR [INSERT FR PAGE NUMBER AND 8/27/2024].
| Hong Kong Yayang Trading Ltd., a.k.a., the following three aliases: —Hong Kong Yayang Trading Limited; —Hongkong Yayang Trading; and —Yayang. Room 04, 16/F, Ho King Commercial Centre, 2-16 Fa Yuen St., Mong Kok, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| Hongkong Inkson Technology Limited, a.k.a., the following two aliases: —Inkson Limited; and —Inkson Ltd. Rm 2309, 23/F, Ho King Commercial Centre, 2-16 Fa Yuen St., Mong Kok, Kowloon, Hong Kong; and Room 2914C, 29/F Ho King Commercial Centre, 2-16 Fa Yuen St., Mong Kok, Kowloon, Hong Kong; and Room 1219, Dingcheng Building, Zhonghang Road, Huaqiangbei Subdistrict, Futian District, Shenzhen, Guangdong, 518028, China. | For all items subject to the EAR (See §§ 734.9(g),³ 746.8(a)(3), and 744.11 of the EAR) | Policy of denial for all items subject to the EAR. See § 746.8(b). | 89 FR [INSERT FR PAGE NUMBER AND 8/27/2024].
| * * * * * *
| Hytera Communications Limited, a.k.a., the following one alias: —Hytera Communications Ltd. Room 8, 11/F, Wang Fai Industrial Building, 29 Luk Hop Street, San Po Kong, Kowloon, Hong Kong; and Room 13, 9/F, Thriving Industrial Building, No.26-38 Sha Tsui Road, Tseun Wan, New Territories, Hong Kong; and Room 32, 11/F, Lee Ka Industrial Building, 8 Ng Fong Street, San Po Kong, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| ICsole Technology Limited, a.k.a., the following one alias: —ICSOLE. 10th Floor, Metropolitan Heights at Century Place, Du Hui Xuan Building, 3018 Shennan Middle Rd, Futian District, Shenzhen, Guangdong, 518039, China; and 8th Floor, Chevalier House, 45-51 Chatham Road South, Tsim Sha Tsui, Kowloon, Hong Kong; and Room 20, 7/F, Unit B3, Tuen Mun Industrial Centre, No.2 San Ping Circuit, Tuen Mun, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Incomp Limited, Caifugang Building Block D Room1001b, Baoyuan Road, Xixiang District, Shenzhen, Guangdong, China; and One Capital P, Unit D, 16/F, Wan Chai, Hong Kong. | For all items subject to the EAR. (See §§ 734.9(g),³ 746.8(a)(3), and 744.11 of the EAR) | Policy of denial for all items subject to the EAR. See § 746.8(b) | 89 FR [INSERT FR PAGE NUMBER AND 8/27/2024].
| * * * * * *
| Kvantek Limited, a.k.a., the following three aliases: —Kvantek Ltd.; —Kvantek; and —Kvantek (HK) Limited. Unit 704, 7th Floor,135 Bonham Strand Trade Center, Sheung Wan, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Lett Tronic Group Limited, a.k.a., the following two aliases: —LETT TRONIC; and —Lett Tronic Group Ltd. Room 603, 6/F, Hang Pont Commercial Building, 31 Tonkin Street, Cheung Sha Wan, Kowloon, Hong Kong; and Room 101, 3/F, Investment Bank Building, 1st Fuhua Street, Futian District, Shenzhen, Guangdong, China; and Room 3A02, 4/F, Investment Bank Building, 1st Fuhua Street, Futian District, Shenzhen, Guangdong, China; and Room 2405A, Investment Bank Building, 1st Fuhua Street, Futian District, Shenzhen, Guangdong, China; and Room 2401 Dynamic World Building, Zhonghang Road, Futian District, Shenzhen, Guangdong, China; and Unit 03, 6/F, Hang Pong Commercial Building, Cheung Sha Wan, Kowloon, Hong Kong; and Workshop 60, 3/F, Block A, East Sun Industrial Centre, 16 Shing Yip Street, Kwun Tong, Kowloon, Hong Kong; and Unit A1, 2/F, Wing Cheung Industrial Building, 58 Kwai Cheong Road, Kwai Chung, Hong Kong; and Room 2410, DingCheng Building, Shenzhen, Guangdong, China; and Unit 02, 21/F, Hip Kwan Commercial Building, 38 Pik Street, Yau Ma Tei, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| LL Electronic Limited, 15th Floor, Hillier Comm. Building, 65-67 Bonham Strand East, Sheung Wan, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| MAK Logistics, Unit B2, 3/F, 18-24 Kwai Cheong Road., Mai Shun Industrial Building, Kwai Chung, New Territories, Hong Kong. | For all items subject to the EAR. (See § 744.11 of the EAR) | Presumption of denial | 89 FR [INSERT FR PAGE NUMBER AND 8/27/2024].
| Megatek Ltd., Unit B2, 3/F, 18-24 Kwai Cheong Road., Mai Shun Industrial Building, Kwai Chung, New Territories, Hong Kong. | For all items subject to the EAR. (See § 744.11 of the EAR) | Presumption of denial | 89 FR [INSERT FR PAGE NUMBER AND 8/27/2024].
| * * * * * *
| Mei Xin Electronic (HK) Co., Limited, a.k.a., the following three aliases: —Mei Xin Electronic HK Co., Limited; —Meixin Electronics; and —MEIXIN ELECT. Room 1005(B), 10/F, Ho Kong Commercial Center, 2-16 Fa Yuen St., Mong Kok, Hong Kong; and Room 10B, Block A, Guangbo Modern Window Building, Zhenhua Road, Futian District, Shenzhen, Guangdong, 518028, China. | For all items subject to the EAR (See §§ 734.9(g),³ 746.8(a)(3), and 744.11 of the EAR) | Policy of denial for all items subject to the EAR. See § 746.8(b). | 89 FR [INSERT FR PAGE NUMBER AND 8/27/2024].
| * * * * * *
| Midas Lighting Limited, Room 603, 6/F, 9 Walnut Street, Tai Kok Tsui, Kowloon, Hong Kong; and Room 09, 27/F, Ho King Commercial Centre, 2-16 Fa Yuen St., Mong Kok, Hong Kong; and Unit 4, Bright Way Tower, No.33 Mong Kok Rd., Mong Kok, Kowloon, Hong Kong; and Room A1, 11/F, Winner Building, 36 Man Yue Street, Hung Hom, Kowloon, Hong Kong; and Unit 1402A, 14/F, The Belgian Bank Building, 721-725 Nathan Road, Mong Kok, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| Minhoo Logistics Limited, Workshop 60, 3rd floor, Block A, East Sun Industrial Centre, 16 Shing Yip Street, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| O-Nice Trading Co. Limited, a.k.a., the following three aliases: —O-Nice; —Shenzhen Penghuaxin Technology Co., Ltd.; and —SZPHX Tech. Room A838, Huameiju CBD Building, Xinhu Road, Bao'an District, Shenzhen, Guangdong, 518000, China; and Room 14, 29/F, Ho King Commercial Centre, 2-16 Fa Yuen St., Mong Kok, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Piraclinos Limited, 7/F MW Tower, 111 Bonham Strand, Sheung Wan, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| RYX Electronic (HK) Limited, a.k.a., the following one alias: —RYX Electronic Limited. Shenfang Building, Futian District, Shenzhen, Guangdong, 518028, China; and 3rd Floor, Wing Tat Commercial Building, 121-125 Wing Lok Street, Sheung Wan, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Shenzhen Bailiansheng Electronic Science and Technology Co., Ltd, a.k.a., the following one alias: —Shenzhen Bailiansheng Electronic Technology Co., Ltd. Room 807, Building 125, Baishilong Area 1, Baishilong Community, Minzhi Subdistrict, Longhua District, Shenzhen, Guangdong, 518131, China. | For all items subject to the EAR (See §§ 734.9(g),³ 746.8(a)(3), and 744.11 of the EAR) | Policy of denial for all items subject to the EAR. See § 746.8(b). | 89 FR [INSERT FR PAGE NUMBER AND 8/27/2024].
| Shenzhen BZ Space Technology Co., Ltd., a.k.a. the following two aliases: —BZ Space Technology Co., Ltd.; and —BZ Space. 15AB, DuHui Electronic City Building, Huaqiang Rd., Futian, Shenzhen, Guangdong, China; and No.6 Wai Kwan Road, Yeung Uk Tseun Village, Yuen Long, New Territories, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Shenzhen Dongpengshang Electronics Co., Ltd., a.k.a., the following one alias: —DPSA Electronics Co., Ltd. Room 5A, 5th Floor, Business Center Building, Shangbu Industrial Zone, Zhenxin Road, Futian District, Shenzhen, Guangdong, 518028, China; and 4/F, Building 14, Baotian Industrial Zone, Xixiang Residential District, Bao'an District, Shenzhen, Guangdong, 518102, China. | For all items subject to the EAR (See §§ 734.9(g),³ 746.8(a)(3), and 744.11 of the EAR) | Policy of denial for all items subject to the EAR. See § 746.8(b). | 89 FR [INSERT FR PAGE NUMBER AND 8/27/2024].
| * * * * * *
| Shenzhen SCH Technology Co., Ltd. a.k.a., the following four aliases: —Shenzhen ShenChuangHui Technology Company; —Shenzhen ShenChuangHui Technology Co. Ltd.; —SCH Electronics Group (Hong Kong) Co., Ltd.; and —SCH. Room 602, 6th Floor, Unit 1, Building 2, Huali Courtyard, 118 Zhenhua Road, Futian, Shenzhen, Guangdong, 518031, China; and Room 588, Building 201, Shangbu Industrial Zone, Huaqiang North Rd, Futian, Shenzhen, Guangdong, 518028, China; and Room 603, King Han Industrial Building, 8 Wang Guan Road, Kowloon Bay, Hong Kong; and Room 506, 5th Floor, Leader Commercial Building, 54-56 Hillwood Road, Tsimshatsui, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Siliborn Technology Limited, a.k.a., the following three aliases: —Siliborn Technology Ltd; —Siliborn Technology Ltd Trading; and —Siliborn. Flat 2, 8th Floor, Workingport Commercial Building, 3 Hau Fook St, Tsim Sha Tsui, Kowloon, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Superchip Limited, a.k.a., the following two aliases: —Superchip Ltd; and —Superchip (HK) Limited. Unit 704, 7th Floor, 135 Bonham Strand Trade Center, Sheung Wan, Hong Kong. | For all items subject to the EAR (See §§ 734.9(g),³ 746.8(a)(3), and 744.11 of the EAR) | Policy of denial for all items subject to the EAR. See § 746.8(b). | 89 FR [INSERT FR PAGE NUMBER AND 8/27/2024].
| * * * * * *
| Tehran Pishro Trading Co., 16th Floor, Block B, Building 100, Duhui, Huaqiangbe District, Futian District, Shenzhen, Guangdong Province, China. (See alternate addresses under Iran and the United Arab Emirates.) | For all items subject to the EAR. (See § 744.11 of the EAR) | Presumption of denial | 89 FR [INSERT FR PAGE NUMBER AND 8/27/2024].
| * * * * * *
| Tengxuxing Electronic Technology HK Limited, a.k.a., the following four aliases: —Tengxuxing Technology Solutions; —IC Tengxuxing; —Turshehing Electronic Technology (HK) Limited; and —Turshehing. Unit 1702A, 17th Floor, Sunbeam Plaza, No. 1155 Canton Rd., Mong Kok, Kowloon, Hong Kong; and Office 3333, Saige Electronics Market (SEG) Plaza, 82 Shennan Middle Road, Futian District, Shenzhen, Guangdong, China. | For all items subject to the EAR (See §§ 734.9(g),³ 746.8(a)(3), and 744.11 of the EAR) | Policy of denial for all items subject to the EAR. See § 746.8(b). | 89 FR [INSERT FR PAGE NUMBER AND 8/27/2024].
| * * * * * *
| Wellgo International Industrial Limited, a.k.a., the following one alias: —Wellgo International Industrial Ltd. Unit B2, 3/F, 18-24 Kwai Cheong Road., Mai Shun Industrial Building, Kwai Chung, New Territories, Hong Kong. | For all items subject to the EAR. (See § 744.11 of the EAR) | Presumption of denial | 89 FR [INSERT FR PAGE NUMBER AND 8/27/2024].
| * * * * * *
| Yield Bright Industrial Limited, a.k.a., the following two aliases: —Yuhui Industrial Co; and —Yuhui Industrial Co., Ltd. Unit B2, 3/F, 18-24 Kwai Cheong Road., Mai Shun Industrial Building, Kwai Chung, New Territories, Hong Kong. | For all items subject to the EAR. (See § 744.11 of the EAR) | Presumption of denial | 89 FR [INSERT FR PAGE NUMBER AND 8/27/2024].
| * * * * * *
| Yusha Group Co. Ltd., No.29, Industrial Park Road, Chengdong Industrial Park, Jianli County, Hubei, 433301, China; and Wuling Village, Rongcheng Town, Jianli County, Jingzhou, Hubei, 433300, China; and Zhongxin Road, Jianli County, Jingzhou, Hubei, 433300, China. | For all items subject to the EAR (See §§ 734.9(g),³ 746.8(a)(3), and 744.11 of the EAR) | Policy of denial for all items subject to the EAR. See § 746.8(b). | 89 FR [INSERT FR PAGE NUMBER AND 8/27/2024].
| * * * * * *
CRIMEA REGION OF UKRAINE | * * * * * *
| Joint Stock Company Special Research Bureau of Moscow Power Engineering Institute, a.k.a., the following six aliases: —JSC Special Research Bureau of Moscow Power Engineering Institute; —Aktsionernoe Obshchestvo Osoboe Konstruktorskoe Byuro Moskovskogo Energeticheskogo Instituta; —AO Osoboe Konstruktorskoe Byuro Moskovskogo Energeticheskogo Instituta; —Osoboe Konstruktorskoe Byuro Moskovskogo Energeticheskogo Instituta, OAO; —AO OKB MEI; and —JSC OKB MEI. 15 Stepnaya Street, Vitino, Sakski Region, Crimea, 296580, Ukraine; and 3 Kotsyubinskogo Region, Solnechnogorskoe Village, Alushta, Crimea, 298532, Ukraine. (See alternate addresses under Russia.) | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
CYPRUS | * * * * * *
| Merlion Trade Worldwide Ltd., a.k.a., the following two aliases: —Merlion Trade Worldwide Limited; and —Merlion Trade Worldwide. Office 2, 1st Floor, Uad Court, 135 Omonoias Street, Limassol, 3045, Cyprus; and Christabel House, 118 Agias Fylaxeos, Limassol, 3087, Cyprus; and 10 Pikioni Street, Limassol, 3075, Cyprus. | For all items subject to the EAR (See §§ 734.9(g),³ 746.8(a)(3), and 744.11 of the EAR) | Policy of denial for all items subject to the EAR. See § 746.8(b). | 89 FR [INSERT FR PAGE NUMBER AND 8/27/2024].
| * * * * * *
IRAN | * * * * * *
| Arvin Fan Avar Vira Company; a.k.a., the following one alias: —Arvin Fanavar Vira Company. Unit 16, No 3, Corner of 6th Alley, Ebne Yamin St., North Sohrevardi, Tehran, Iran; and No.3, End of Shaghayegh 15, End of Golha Square, Nalkiasher Industrial Zone, Langroud, Iran; and No 16, St. Ibn Yamin, 3rd Floor, Eighth Alley, Shahid Qandi-Niloufar Quarter, Central Sector, Tehran City, Tehran Province, Iran; and No.0 Shagaig St., Ground Floor, Moalem Square, Shahrek neighborhood, Nalkiyasher Industrial Settlement, Dioshel District, Central Sector, Langrod City, Gilan Province, Iran. | For all items subject to the EAR. (See § 744.11 of the EAR) | Presumption of denial | 89 FR [INSERT FR PAGE NUMBER AND 8/27/2024].
| * * * * * *
| BuyBest Electronic, a.k.a., the following three aliases: —Buy Best Electronic Pars; —Buybest Elektronik İthalat İhracat Limited Şirketi; and —Andriman Group İnşaat İthalat İhracat Sanayi Ve Ticaret Limited Şirketi. Unit 7, No.20, Marvdasht St., Sadeghieh 2nd Sq., Tehran, Iran; and Unit 20, No.7, Marvdasht Alley, Ashrafi Esfahani St., Sadeghieh Second Sq., Tehran, Iran; and Tawakkel Passage, 1st Floor, Unit 110, before reaching Hafez Bridge, Jomohri St., Tehran, Iran. (See alternate addresses under China and Turkey.) | For all items subject to the EAR. (See § 744.11 of the EAR) | Presumption of denial | 89 FR [INSERT FR PAGE NUMBER AND 8/27/2024].
| * * * * * *
| Digi Ghate, No.22, Ground Floor, Tavakkol Passage, Hafez Bridge, Tehran, Iran; and Azadi Innovation Factory, Lashkari Highway, Azadi Square, Tehran, Iran; and No.15, End of Shaghayegh 3, Golha Square Entrance, Nalkiasher Industrial Town, Langroud, Iran. | For all items subject to the EAR. (See § 744.11 of the EAR) | Presumption of denial | 89 FR [INSERT FR PAGE NUMBER AND 8/27/2024].
| * * * * * *
| Fidar System Pooyan, a.k.a., the following one alias: —Fidar System Pouyan. Unit 6, No.7, Mahbod Alley, Laleh St., Jomohri St., Tehran, Iran; and No.12, 21th Alley, Ahmad Ghasir St., Argentina Sq, Tehran, Iran; and No.9 Lale Alley, First Floor, Unit 2, Hatef Alley, Chaharrah Hafez Neighborhood, Central Sector, Tehran City, Tehran Province, Iran. | For all items subject to the EAR. (See § 744.11 of the EAR) | Presumption of denial | 89 FR [INSERT FR PAGE NUMBER AND 8/27/2024].
| * * * * * *
| General Electronic, a.k.a., the following three aliases: —Digital Electronics Engineering Group; —Delta Electronic; and —Keyhan Electronic. Unit 620, 6th floor, Abbasian Building, after Hafez Bridge, Jomhuri Eslami St., Tehran, Iran; and No.B33, Tavakkol Passage before Hafez St., Jomhouri St., Tehran, Iran.; and Unit 22, Second floor, Amjad Passage, between Hafez and Si Tir, Jomhouri St., Tehran, Iran. | For all items subject to the EAR. (See § 744.11 of the EAR) | Presumption of denial | 89 FR [INSERT FR PAGE NUMBER AND 8/27/2024].
| * * * * * *
| IC Kala, a.k.a., the following one alias: —Ickala. First Floor, No.9, Laleh St., Jomohri St., Tehran, Iran. | For all items subject to the EAR. (See § 744.11 of the EAR) | Presumption of denial | 89 FR [INSERT FR PAGE NUMBER AND 8/27/2024].
| * * * * * *
| Iran Compo Co., a.k.a., the following one alias: —Irancompo. No.38, East Hoveizeh St., North Sohrevardi St., Tehran, Iran. | For all items subject to the EAR. (See § 744.11 of the EAR) | Presumption of denial | 89 FR [INSERT FR PAGE NUMBER AND 8/27/2024].
| * * * * * *
| Javan Electronic Company, No.17, Ground Floor, Abbasian Passage, Jomohri St., Tehran, Iran. | For all items subject to the EAR. (See § 744.11 of the EAR) | Presumption of denial | 89 FR [INSERT FR PAGE NUMBER AND 8/27/2024].
| * * * * * *
| SkyTech Electronic, a.k.a., the following one alias: —Sepehr Tejarat Trading Group. Unit 2, Floor 1, No.13, Yoghma Alley, Jomohri Junction, Tehran, Iran; and MCV5QGP District 11, Tehran Province, Iran. | For all items subject to the EAR. (See § 744.11 of the EAR) | Presumption of denial | 89 FR [INSERT FR PAGE NUMBER AND 8/27/2024].
| * * * * * *
| Tehran Pishro Trading Co., 227th Floor, No.4, Next to Jahangardi Club, Azadi St., Tehran, Iran. (See alternate addresses under China and the United Arab Emirates.) | For all items subject to the EAR. (See § 744.11 of the EAR) | Presumption of denial | 89 FR [INSERT FR PAGE NUMBER AND 8/27/2024].
| * * * * * *
| Zagros Electronic, a.k.a., the following one alias: —Tesla Hooshmand Sazan Company. No.15, Ground Floor, Abbasian Passage, After Hafez Bridge, Jomhouri St., Tehran, Iran. | For all items subject to the EAR. (See § 744.11 of the EAR) | Presumption of denial | 89 FR [INSERT FR PAGE NUMBER AND 8/27/2024].
| * * * * * *
KAZAKHSTAN | * * * * * *
| All Global Trading Elektronik Dis Ticaret Ltd Sti, Auezova 14a, BC “Fertility” 15th floor, Almaty City, Almaly Region, 050026, Kazakhstan. (For alternate addresses, see Kyrgyzstan and Turkey.) | For all items subject to the EAR. (See §§ 734.9(g),³ 746.8(a)(3), and 744.11 of the EAR) | Policy of denial for all items subject to the EAR. See § 746.8(b) | 89 FR [INSERT FR PAGE NUMBER AND 8/27/2024].
| * * * * * *
KYRGYZSTAN | All Global Trading Elektronik Dis Ticaret Ltd Sti, 140/57 Chui Street, Bishkek City, Kyrgyzstan. (For alternate addresses, see Kazakhstan and Turkey.) | For all items subject to the EAR. (See §§ 734.9(g),³ 746.8(a)(3), and 744.11 of the EAR) | Policy of denial for all items subject to the EAR. See § 746.8(b) | 89 FR [INSERT FR PAGE NUMBER AND 8/27/2024].
| * * * * * *
RUSSIA | * * * * * *
| Aktsionernoe Obshchestvo Radiotekhkomplekt, a.k.a., the following two aliases: —AO RTKT; and —Joint Stock Company Radiotechkomplekt. 35 Ul Tatarskaya B., Building 7-9, Floor 4 Pom I Kom 1, Moscow 115184, Russia. | For all items subject to the EAR. (See §§ 734.9(g),³ 746.8(a)(3), and 744.11 of the EAR) | Policy of denial for all items subject to the EAR. See § 746.8(b) | 89 FR [INSERT FR PAGE NUMBER AND 8/27/2024].
| * * * * * *
| Complex Unmanned Solutions Center LTD, a.k.a., the following two aliases: —USC LTD; and —Unmanned Solutions Center. 24/1A Luch Street, Floor 2, Room 112, Zhukovsky, Moscow Region, 140184, Russia; and Spasateley Street, 7, Zhukovsky, 140184, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Federal Government Budget Institution State Institute for Experimental Military Medicine, a.k.a. the following seven aliases: —Federalnoe Gosudarstvennoe Byudzhetnoe Uchrezhdenie Gosudarstvenny Nauchno—Issledovatelski Ispytatelny Institut Voennoi Meditsiny Ministerstva Oborony Rossiskoi Federatsii; —Gosudarstvenny Nauchno-Issledovatelski Ispytatelny Institut Voennoi Meditsiny; —State Scientific Research and Testing Institute of Military Medicine; —FGBU GNIII VM MO RF; —GNII VM; —State Institute for Experimental Military Medicine; and —State Research Experimental Institute of Military Medicine. 4 Lesoparkovaya Street, Saint Petersburg, 195043, Russia; and 15 Teatralnaya Alley, Strelna Settlement, Saint Petersburg, 198515, Russia; and 100 Borisenko Street, Vladivostok, Primorsky Region, 650080, Russia; and 100 Borisenko Street, Building D, Vladivostok, Primorsky Region, 650080, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Federal State Enterprise Aleksinsky Chemical Plant, a.k.a., the following seven aliases: —Federalnoe Kazennoe Predpriyatie Aleksinski Khimicheski Kombinat; —Aleksinskii Khimicheskii Kombinat; —Aleksinsky Chemical Plant; —Aleksinsky Chemical Combine; —Aleksinsky Chemical; —FKP AKHK; and —AKHK. 21 Pobedy Square, Aleksin, Tula Region, 301361, Russia; and 23 Truda Avenue, Kotovsk, Tambov Region, 393192, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Federal State Enterprise Kamenksy Combine, a.k.a. the following five aliases: —Federalnoe Kazennoe Predpriyatie Kombinat Kamenski; —FKP Kombinat Kamenski; —Kombinat Kamenskii; —Federal State Enterprise Kamensky Plant; and —Kamensky Plant. 8 Saprygina Street, Kamensk-Shakhtinski, Rostov Region, 347801, Russia; and 1 Park Kultury Street, Kamensk-Shakhtinski, Rostov Region, 347810, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Federal State Enterprise Perm Powder Plant, a.k.a., the following four aliases: —Federalnoe Kazennoe Predpriyatie Permski Porokhovoi Zavod; —Permski Porokhovoi Zavod; —Perm Powder Plant; and —Perm Gunpowder Mill. 11 Galperina Street, Perm, Perm Region, 614101, Russia; and 6 Avtozavodskaya Street, Perm, Perm Region, 614101, Russia; and 1 Lsvinskaya Street, Perm, Perm Region, 614113, Russia; and 6 Marshala Rybalko Street, Office 19, Perm, Perm Region, 614101, Russia; and 3 Oruzheiny Lane, Building 1, Moscow; and sad Elniki, Sylva Settlement, Perm Region, 614503, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Izumrud AO, a.k.a., the following two aliases: —Izumrud JSC; and —Izumrud OAO. 65 St. Russkaya, Vladivostok, Primorsky Region, 690105, Russia. | For all items subject to the EAR. (See §§ 734.9(g),³ 746.8(a)(3), and 744.11 of the EAR) | Policy of denial for all items subject to the EAR. See § 746.8(b) | 89 FR [INSERT FR PAGE NUMBER AND 8/27/2024].
| Joint Stock Company 75 Arsenal, a.k.a., the following six aliases: —Open Joint Stock Company 75 Arsenal; —OJSC 75 Arsenal; —JSC 75 Arsenal; —Aktsionernoe Obshchestvo 75 Arsenal; —AO 75 Arsenal; and —OAO 75 Arsenal. Moskovskoe Highway, Serpukhov, Moscow Region, 142204, Russia; and 5 Potapovski Lane, Building 4, Moscow, 101000, Russia; and 20 Tverskaya Yamskaya 4-Ya, Building 1, Room 507, Moscow, 125047, Russia; and 2A Karl Marx Street, Room 207, Rzhev, Tver Region, 172389, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company 419 Aircraft Repair Plant, a.k.a., the following five aliases: —JSC 419 Aircraft Repair Plant; —Aktsionernoe Obshchestvo 419 Aviatsionny Remontny Zavod; —JSC 419 ARZ; —JSC 419 ARP; and —AO 419 ARZ. 16 Politruka Pasechnika Street, Building 2, Toriki Territory, Saint Petersburg, 198326, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Astrophysika National Centre of Laser Systems and Complexes, a.k.a., the following seven aliases: —Aktsionernoe Obshchestvo Natsionalniy Tsentr Lazernykh Sistem I Kompleksov Astrofizika; —AO Natsionalniy Tsentr Lazernykh Sistem I Kompleksov Astrofizika; —OAO Natsionalniy Tsentr Lazernykh Sistem I Kompleksov Astrofizika; —AO NTSLSK Astrofizika; —GP NPO Astrofizika; —Astrofizika; and —Astrophysica. 27 Aleksandra Solzhenitsyna Street, Room I, Inner City Municipal District Nagorny, Moscow, 109004, Russia; and 7 Nagorny Passage, Building 1, Inner City Municipal District Nagorny, Moscow, 117105, Russia; and 112 Volokolamskoe Highway, Moscow, 123424, Russia; and Poreche Building, Ruza, Moscow Region, Russia; and 95 Volokolamskoe Highway, Building 3, Moscow, 107392, Russia; and 95 Volokolamskoe Highway, Building 4, Moscow, 107392, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Aviation Reducers and Transmissions—Perm Motors, a.k.a., the following four aliases: —JSC Aviation Reducers and Transmissions—Perm Motor; —Aktsionernoe Obshchestvo Aviatsionnye Reduktora I Transmissii—Permskie Motory; —Joint Stock Company Reductor-PM; and —JSC Reductor-PM. 105G Geroyev Khasan Street, Perm, Perm Region, 614025, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Central Design Bureau of Apparatus Engineering, a.k.a., the following nine aliases: —Aktsionernoe Obshchestvo Tsentralnoe Konstruktorskoe Byuro Apparatostroeniya; —AO Tsentralnoe Konstruktorskoe Byuro Apparatostroeniya; —JSC Central Design Bureau of Apparatus Engineering; —Central Design Bureau of Apparatus Engineering; —Joint Stock Company Apparatus Development; —AO TSKBA; —JSC TSKBA; —JSC CDBAE; and —TSKBA. 36 Demonstratsii Street, Tula, Tula Region, 300034, Russia; and 41 Pionerski Avenue, Building 4, Office 39, Anapa, Krasnodarsk Region, 353456, Russia; and 14A Akademika Pavlova Street, Letter A, Office 2, Saint Petersburg, 197022, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Class, a.k.a., the following six aliases: —JSC Class; —Aktsionernoe Obshchestvo Nauchno-Proizvodstvennoe Predpriyatie Klass; —JSC Research and Production Enterprise Class; —AO NPP Klass; —JSC NPP Class; and —NPP Klass. 3 Solvetskaya Street, Floor 2, Room 2, Lukhovitsky, Moscow Region, 140501, Russia; and 56 Entuziastov Highway, Building 21, Moscow, 111123, Russia; and Patriarkha Pimena Street, Building 75, Sofrino Working Village, Pushkino, Moscow Region, 141200, Russia; and 50 Sovetskaya Street, Building 2, Lukhovitsky, Moscow Region, 140500, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Design Bureau of Navigation Systems, a.k.a., the following four aliases: —Design Bureau of Navigation Systems JSC; —Aktsionernoe Obshchestvo Konstruktorskoe Byuro Navigatsionnykh Sistem; —AO Konstruktorskoe Byuro Navigatsionnykh Sistem; and —AO KB Navis. 3 Kulneva Street, Building 1, Room III/5,6, Moscow, 121170, Russia; and 9 Mendeleevskaya Street, Letter V, Saint Petersburg, 194044, Russia; and Building 25, Mendeleevo Working Town, Solnechnogorsk, Moscow Region, 141570, Russia. (See alternate address under Ukraine.) | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Dubnenskiy Machine-Building Plant named after N. P. Fedorova, a.k.a., the following five aliases: —Joint Stock Company Dubna Machine—Building Plant by N.P. Fedorov; —Aktsionernoe Obshchestvo Dubnenski Mashinostroitelny Zavod imeni N.P. Fedorova; —DMZ im. N. P. Fedorova; —DMZ—Kamov; and —DMZ. 2 Zhukovsky Street, Building 1, Dubna, Moscow Region, 141983, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Eirburg, a.k.a., the following six aliases: —JSC Eirburg; —JSC Airburg; —Aktsionernoe Obschchestvo Eirburg; —AO Eirburg; —OKB UZGA, OOO; and —Limited Liability Company OKB UZGA. 8 Marta Street, Building 49, Floor 3, Yekaterinburg, Sverdlov Region, 620063, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Joint Stock Company Electroavtomatika, a.k.a., the following four aliases: —JSC Electroavtomatika; —Aktsionernoe Obshchestvo Elektroavtomatika; —AO Elektroavtomatika; and —OAO Elektroavtomatika. 9 Zavodskaya Street, Stavropol, Stavropol Region, 355008, Russia; and Novotroitskaya Village, Building B, Izobilnenski Region, 356100, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Gazprom Space Systems, a.k.a., the following four aliases: —Aktsionernoe Obshchestvo Gazprom Kosmicheskie Sistemy; —Gazprom Kosmicheskie Sistemy; —Gazprom Kosmicheskie Sistemy, OAO; and —GSS. 77B Moskovskaya Street, Shchelkovo, Moscow Region, 141108, Russia; and 2A Yuzhnaya Street, Novy Urengoi, Yamalo-Nenetski Autonomous Region, 629300, Russia; and 8 Sergeya Eizenshteina Street, Building 1, Moscow, 101000, Russia; and 31 Pervomaiskaya Street, Shchelkovo, Moscow Region, 141010, Russia; and 15A Tsentralnaya Street, Skvortsovo, Khabarovsk Region, 680539, Russia; and 18B Sakko I Vantsetti Street, Korolev, Moscow Region, 141070, Russia; and 35 Azimutovskaya Street, Ordynskoe Working Town, Ordynski Region, 633261, Russia; and Ponomarevka Building, Pereslav, Yaroslav Region, 152044, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Helicopter Service Company, a.k.a., the following six aliases: —JSC Helicopter Service Company; —Aktsionernoe Obshchestvo Vertoletnaya Servisnaya Kompaniya; —AO Vertoletnaya Servisnaya Kompaniya; —AO VSK; —VSK; and —HSC. 40/2 Prechistenka Street, Building 3, Moscow, 119034, Russia; and Building 1, Khimki, Moscow Region, 141407, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Institute of Applied Physics, a.k.a., the following four aliases: —Aktsionernoe Obshchestvo Institut Prikladnoi Fiziki; —AO Institut Prikladnoi Fiziki; —Institute Of Applied Physics IAP; and —AO IPF. 11 Arbuzova Street, Novosibirsk, Novosibirsk Region, 630117, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Jupiter Plant, a.k.a., the following five aliases: —JSC Zavod Yupiter; —JSC Jupiter Plant; —Zakrytoe Aktsionernoe Obshchestvo Zavod Yupiter; —Closed Joint Stock Company Jupiter Plant; and —ZAO Zavod Yupiter. 107 Pobedy Street, Building 1, Valdai, Valdai Region, 175400, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Kumertau Aviation Production Enterprise, a.k.a., the following four aliases: —JSC Kumertau Aviation Production Enterprise; —Aktsionernoe Obshchestvo Kumertauskoe Aviatsionnoe Proizvodstvennoe Predpriyatie; —JSC Kumapp; and —AO Kumapp. 15A Novozarinskaya Street, Kumertau, Republic of Bashkortostan, 453300, Russia; and Nugush Village, Meleuzovski Region, Republic of Bashkortostan, 453871, Russia; and 7 Bolshaya Pochtovaya, Building 7, Moscow, 105082, Russia; and Ira Village, Kumertau, Republic of Bashkortostan, 453300, Russia; and 1 Salavata Street, Kumertau, Republic of Bashkortostan, 453350, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company M.V. Frunze Arsenal Design Bureau, a.k.a., the following four aliases: —JSC M.V. Frunze Arsenal Design Bureau; —Aktsionernoe Obshchestvo Konstruktorskoe Byuro Arsenal Imeni M.V. Frunze; —AO KB Arsenal; and —JSC KB Arsenal. 1-3 Komsomola Street, Letter M, Room 19-N, Saint Petersburg, 195009, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company National Helicopter Construction Center named after M.L. Mil and N.I. Kamov, a.k.a., the following six aliases: —JSC National Helicopter Center Mil and Kamov; —JSC National Helicopter Center Mil&Kamov; —Aktsionernoe Obshchestvo Natsionalny Tsentr Vertoletostroeniya im. M.L. Milya I N.I. Kamova; —JSC NTsV Mil i Kamov; —AO NTsV Mil i Kamov; and —NTsV Mil i Kamov. 26/1 Garshina, Tomilino Street, Lyuberetsky Region, 140070, Russia; and 5 Novatorov Street, Rostov-na-Donu, Rostov Region, Russia; and Pionerskaya Street, Tomilino Working Village, Lyubertsy, Moscow Region, 140004, Russia; and 5 Lenin Square, Arsenev, Primorsky Region, 692342, Russia; and 2 Sokolnicheski Val Street, Moscow, 107113, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company ODK-Klimov, a.k.a., the following four aliases: —JSC ODK—Klimov; —Aktsionernoe Obshchestvo ODK—Klimov; —AO ODK—Klimov; and —UEC—Klimov. 11 Kantemirovskaya Street, Building 1, Saint Petersburg, 194100, Russia; and 4A Lenin Place, Arsenev, Primorsky Region, 692335, Russia; and 1 Khorinskaya Street, Ulan-Ude, Republic of Buryatiya, 670009, Russia; and Razdole Building, Priozersk Region, Leningrad Region, 188733, Russia; and 11 Kantemirovskaya Street, Building 1, Saint Petersburg, 194100, Russia; and Military Unit 35666, Korenovsk, Korenovsk Region, 353180, Russia; and 14 Tetsevskaya Street, Kazan, Republic of Tatarstan, 420085, Russia; and 57 Zapovednaya Street, Saint Petersburg, 194356, Russia; and 283 Bogdana Khmelnitskogo Street, Omsk, Omsk Region, 644021, Russia; and 93 Komsomolski Avenue, Perm, Perm Region, 614010, Russia; and Military Unit 44936, Novaya Zhizn Village, Budennovski Region, 356821, Russia; and 2 Vodnikov Street, Moscow, 125362, Russia; and 6 Berzarina Street, Building 2, Moscow, 127204, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Polimer, a.k.a., the following five aliases: —Aktsionernoe Obshchestvo Polimer; —AO Polimer; —PAO Polimer; —Public Joint Stock Company Polimer; and —JSC Polimer. 4 Proizvodstvennaya Street, Chapeavsk, Samara Region, 446100, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Progress Arsenyev Aviation Company, a.k.a., the following four aliases: —JSC Progress Arsenyev Aviation Company; —JSC AAC Progress; —AO AAK Progress; and —AAC Progress. 5 Lenin Square, Arsenyev, Primorsky Region, 692342, Russia; and 7 Kievskaya Street, Building 2, Moscow, 121059, Russia; and Building 10, Ayaks Settlement, Russki Island, Vladivostok, Primorsky Region, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Radioavionika, a.k.a., the following seven aliases: —JSC Radioavionika; —OAO Radioavionika; —Otkrytoe Atsionernoe Obshchestvo Radioavionika; —OJSC Radioavionika; —Open Joint Stock Company Radioavionika; —PAO Radioavionika; and —Radioavionica Corporation. 4 Troitski Avenue, Letter B, Saint Petersburg, 190005, Russia; and 20 Basmannaya Nov. Street, Moscow, 107066, Russia; and 14 Obvonogo Kanala Embankment, Saint Petersburg, 192019, Russia; and 116 Borovaya Street, Saint Petersburg, 192007, Russia; and 11 Kosmonatov Avenue, Letter Kh, Office 13, Yekaterinburg, Sverdlovskaya Region, 620017, Russia; and 22 Krasnoflotski Lane, Office 5, Rostov-na-Donu, Rostov Region, 344002, Russia; and 21 Dzerzhinskogo Street, Staraya Russa, Starorusski Region, 175202, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Research Production Association Kurganpribor, a.k.a., the following five aliases: —JSC Research Production Association Kurganpribor; —Aktsionernoe Obshchestvo Nauchnoproizvodstvennoe Obedinenie Kurganpribor; —AO NPO Kurganpribor; —JSC Kurganpribor; and —Kurganpribor. 41A Yastrzhembskogo Street, Kurgan, Kurgan Region, 640007, Russia; and 8 Presnenskaya Embankment, Moscow, 123317, Russia; and 60/1 Stantsionnaya Street, Novosibirsk, Novosibirsk Region, 630071, Russia; and 1 Dzerzhinskogo Street, Perm, Perm Region, 614068, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Scientific-Technical Center for Electronic Warfare, a.k.a., the following six aliases: —JSC Scientific-Technical Center for Electronic Warfare; —Aktsionernoe Obschestvo Nauchno-Tekhnicheski Tsentr Radioelektronnoi Borby; —AO Nauchno-Tekhnicheski Tsentr Radioelektronnoi Borby; —Scientific And Technical Center of Radioelectronic Warfare; —JSC NTTS REB; and —AO NTTS REB. 29 Vereiskaya Street, Building 135, Moscow, 121357, Russia; and 2 Bolshoi Smolenski Avenue, Letter A, Floor 5, Room 9N, Room 28, Saint Petersburg, Russia; and 31A Konstruktorov Street, Voronezh, Voronezh Region, 394038, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Special Research Bureau of Moscow Power Engineering Institute, a.k.a., the following six aliases: —JSC Special Research Bureau of Moscow Power Engineering Institute; —Aktsionernoe Obshchestvo Osoboe Konstruktorskoe Byuro Moskovskogo Energeticheskogo Instituta; —AO Osoboe Konstruktorskoe Byuro Moskovskogo Energeticheskogo Instituta; —Osoboe Konstruktorskoe Byuro Moskovskogo Energeticheskogo Instituta, OAO; —AO OKB MEI; and —JSC OKB MEI. 14 Krasnokazarmennaya Street, Moscow, 111250, Russia; and 1 Komarova Street, Galenki, Oktyabrski Region, Primorsky Region, 692564, Russia; and Tolstoukhovo Building, Alferovskoe Village, Kalyazinski Region, 171550, Russia; and Dolgoe Ledovo Building, Shchelkovo, Moscow Region, 141143, Russia. (See alternate addresses under Crimea Region of Ukraine.) | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Strommashina Shield, a.k.a., the following four aliases: —Aktsionernoe Obshchestvo Strommashina Shchit; —JSC Strommashina Shield; —JSC Strommashina Shchit; and —AO Strommashina Shchit. 10A 22 Partsezda Street, Samara, Samara Region, 443022, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Verkhneturinsky Machine Building Plant, a.k.a., the following five aliases: —JSC Verkhneturinsky Machine Building Plant; —Joint Stock Company Verhneturinsky Mashinostroitelny Zavod; —JSC Verhneturinsky Mashinostroitelny Zavod; —Open Joint Stock Company Verhneturinsky Mashinostroitelny Zavod; and —AO VTMZ. 2 Mashinostroitelei Street, Verkhnyaya Tura, Sverdlov Region, 624320, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Joint Stock Company VNIIR-Progress, a.k.a., the following five aliases: —JSC VNIIR—Progress; —AO VNIIR—Progress; —AT VNIIR—Progress; —OAO VNIIR—Progress; and —Open Joint Stock Company VNIIR-Progress. 4 I.Ya. Yakoleva Avenue, Cheboksary, Republic of Chuvashia, 428024, Russia; and 29 Serebryanicheskaya Embankment, Moscow, 109208, Russia; and 18 Bogatyrski Avenue, Building 1, Room A/310, Saint Petersburg, 197348, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Volsk Mechanical Plant, a.k.a., the following four aliases: —JSC Volsk Mechanical Plant; —OAO Volski Mekhanicheski Zavod; —JSC VMP; and —AO VMP. 10 Vidim Town, Volsk, Saratov Region, 412921, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Joint Stock Company Zavod Korpusov, a.k.a., the following four aliases: —Aktsionernoe Obshchestvo Zavod Korpusov; —PAO Zavod Korpusov; —OAO Zavod Korpusov; and —JSC Zavod Korpusov. 1 Zavodskaya Street, Vyksa, Nizhegorod Region, 607061, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| JSC SEZ PPT Alabuga, a.k.a., the following three aliases: —Osobaya Ekonomicheskaya Zona Alabuga; —Aktsionernoe Obshchestvo Osobaya Ekonomicheskaya Zona Promyshlenno-Proizvodstvennogo Tipa Alabuga; and —Joint Stock Company Special Economic Zone Production and Industrial Type Alabuga. OEZ Territory, 4/1 Highway-2, Yelabuga, Republic of Tatarstan, 423601, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Limited Liability Company Analytical Manufactory, a.k.a., the following five aliases: —LLC Analytical Manufactory; —Obshchestvo S Organichennio Otyetstvennostyu Analiticheskaya Maufaktura; —OOO Analiticheskaya Maufaktura —Analytical Manufaktory; and —Analytikal Manufactory. 9 Rublevshoe Highway, Floor 1, Room I, Room 10B, Moscow, 121108, Russia. | For all items subject to the EAR (See §§ 734.9(g), 746.8(a)(3), and 744.21(b) of the EAR) | Policy of denial for all items subject to the EAR apart from food and medicine designated as EAR99, which will be reviewed on a case-by-case basis. See §§ 746.8(b) and 744.21(e). | 89 FR [INSERT FR PAGE NUMBER AND 8/27/2024].
| * * * * * *
| Limited Liability Company Eliars, a.k.a., the following three aliases: —Obshchestvo S Ogranichennoi Otvetstvennostyu Eliars; —OOO Eliars; and —Eliars LLC. 8 Konstruktora Guskova Street, Building 1, Zelenograd, Moscow, 124460, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Limited Liability Company Eluent Laboratories, a.k.a., the following five aliases: —LLC Eluent Laboratories; —Obshchestvo S Organichennio Otyetstvennostyu Elyuentlaboratoriz; —OOO Elyuentlaboratoriz; —Elyuentlaboratoriz LTD; and —Elyuent Laboratories. 4 Ivana Franko Street, Building 2, Floor 2, Room N1, Room N27, Moscow, 121108, Russia. | For all items subject to the EAR (See §§ 734.9(g), 746.8(a)(3), and 744.21(b) of the EAR) | Policy of denial for all items subject to the EAR apart from food and medicine designated as EAR99, which will be reviewed on a case-by-case basis. See §§ 746.8(b) and 744.21(e). | 89 FR [INSERT FR PAGE NUMBER AND 8/27/2024].
| * * * * * *
| Limited Liability Company Hotu Tent, a.k.a., the following four aliases: —Hotu Tent LLC; —Obshchestvo S Ogranichennoi Otvetstvennostyu Khotu Tent; —OOO Khotu Tent; and —Khotu Tent. 31/1 Kirova Street, Apartment 92, Yakutsk, Republic of Sakha (Yakutiya), 677027, Russia; and 1 Truda Street, Yakutsk, 677000, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Limited Liability Company K.ARMA, a.k.a., the following three aliases: —LLC K.ARMA; —Obshchestvo S Ogranichennoi Otvetstvennostyu K.ARMA; and —OOO K.ARMA. 40 Mechnikova Street, Apartment 27, Kolomna, Moscow Region, 140412, Russia; and 354A Oktiabrskoy Revolutsii Street, Kolomna, 140408, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Limited Liability Company Laggar Pro, a.k.a., the following three aliases: —Obshchestvo S Ogranichennoi Otvetstvennostyu Laggar Pro; —OOO Laggar Pro; and —Laggar Pro. 190B Ovrazhnaya Street, Room 19, Afonino Village, Kstovski District, Nizhegorod Region, 607680, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Limited Liability Company Lipetsk Mechanical Plant, a.k.a., the following five aliases: —Obshchestvo S Ogranichennoi Otvetstvennostyu Lipetski Mekhanicheskii Zavod; —OOO Lipetskii Mekhanicheskii Zavod; —Lipetskii Mekhanicheskii Zavod; —Lipetsk Mechanical Plant; and —OOO LMZ. 1 Krasnozavodskaya, Office 201, Lipetsk, Lipetsk Region, 398006, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Limited Liability Company Medstandart, a.k.a., the following four aliases: —Medstandart, LLC; —Obshchestvo S Organichennio Otyetstvennostyu Medstandart; —Medstandart, OOO; and —Medstandart. 16 Varshayshoe Highway, Building 2, Floor 1, Room I, Room 3, Moscow, 117105, Russia. | For all items subject to the EAR (See §§ 734.9(g), 746.8(a)(3), and 744.21(b) of the EAR) | Policy of denial for all items subject to the EAR apart from food and medicine designated as EAR99, which will be reviewed on a case-by-case basis. See §§ 746.8(b) and 744.21(e). | 89 FR [INSERT FR PAGE NUMBER AND 8/27/2024].
| Limited Liability Company Moscow Arms Company, a.k.a., the following five aliases: —Obshchestvo S Ogranichennoi Otvetstvennostyu Moskovskaya Oruzheinaya Kompaniya; —OOO Moskovskaya Oruzheinaya Kompaniya; —Moskovskaya Oruzheinaya Kompaniya; —Moscow Arms Company LLC; and —Bespoke Gun. 1 Novoslobodskaya Street, Possession 1, Mytishchi, Moscow Region, 141009, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Limited Liability Company NPK Aerokon, a.k.a. the following three aliases: —Obshchestvo S Ogranichennoi Otvetstvennostyu NPK Aerokon; —OOO NPK Aerokon; and —Aerokon. 18 Tsentralnaya Street, Office 1, Chernyshevka Village, Chernyshevskoe Settlement, Vysokogorski Micro Region, Republic of Tatarstan, 422710, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Limited Liability Company Plaz, a.k.a., the following three aliases: —Obshchestvo S Ogranichennoi Otvetstvennostyu Plaz; —OOO Plaz; and —Plaz. 22 Politekhnicheskaya Street, Letter V, Room 1-N, Saint Petersburg, 194021, Russia; and 8A Elektrodny Passage, Office 22, Moscow, 11123, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Limited Liability Company Research and Production Company Makrooptika, a.k.a., the following five aliases: —Obshchestvo S Ogranichennoi Otvetstvennostyu Nauchno-Proizvodstvennaya Kompaniya Makrooptika; —OOO Nauchno—Proizvodstvennaya Kompaniya Makrooptika; —OOO NPK Makrooptika; —Matrooptika; and —Makrooptika Ltd. 5 Yablochkova Avenue, Building 47, Floor 2, Room 2.5, Ryazan, Ryazan Region, 390023, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Limited Liability Company Rusmedtorg, a.k.a., the following four aliases: —LLC Rusmedtorg; —Obshchestvo S Organichennio Otyetstvennostyu Rusmedtorg; —OOO Rusmedtorg; and —Rusmedtorg. 2/21 Lenskaya Street, Floor 5, Room III, Room 2, Moscow, 129327, Russia. | For all items subject to the EAR (See §§ 734.9(g), 746.8(a)(3), and 744.21(b) of the EAR) | Policy of denial for all items subject to the EAR apart from food and medicine designated as EAR99, which will be reviewed on a case-by-case basis. See §§ 746.8(b) and 744.21(e). | 89 FR [INSERT FR PAGE NUMBER AND 8/27/2024].
| Limited Liability Company Special Design and Technology Bureau Plastic, a.k.a., the following five aliases: —Obshchestvo S Ogranichennoi Otvetstvennostyu Spetsialnoe Konstruktorsko-Tekhnologicheskoe Byuro Plastik; —OOO Spetsialnoe Konstruktorsko-Tekhnologicheskoe Byuro Plastik; —SKTB Plastik; —OOO Plastik—Finans; and —Plastik. Building 4K, Saratovskoe Highway, Syzran, Samarskaya Region, 446008, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| Limited Liability Company Zavod Spetsagregat, a.k.a., the following three aliases: —LLC Zavod Spetsagregat; —Obshchestvo S Ogranichennoi Otvetstvennostyu Zavod Spetsagregat; and —OOO Zavod Spetsagregat. 10A, 8 Lyulya Street, Miass, Chelyabinsk Region, 456304, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| LLC Alabuga Exim, Street 102, Sh-2 Avenue, territory of the special economic Alabuga special economic zone, Alabuga, Republic of Tatarstan, 423601, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| LLC Alabuga Machinery, Pom.110, Str. 5/12, Ul. Sh-2 (Oez Alabuga Ter.), Elabuzhski Raion, Tatarstan Resp., 423601, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| LLC Drake, a.k.a., the following one alias: —Liliani-Tekhnolodzhi, OOO. Pom.126, Str. 5/12, Ul. Sh-2 (Oez Alabuga Ter.), Elabuzhski Raion, Tatarstan Resp., 423601, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| OOO Alabuga Development, Pomeshch. 8, 9, 11, 12, 13, 14, k. 4, ul Sh-2, ter. OEZ Alabuga, gorod Elabuga, m.r-n Elabuzhski Republic of Tartarstan, 423601, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| OOO GEA, Pom.36, Str. 5/12, Ul. Sh-2 (Oez Alabuga Ter.), Elabuzhski Raion, Tatarstan Resp., 423601, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Open Joint Stock Company Aero Engine Scientific and Technical Company Soyuz, a.k.a., the following seven aliases: —Otkrytoe Aktsionernoe Obshchestvo Aviamotorny Nauchno-Tekhnicheski Kompleks Soyuz; —OAO Aviamotorny Nauchno-Tekhnicheski Kompleks Soyuz; —Moskovskoye Nauchno-Proizvodstvennoye Obyedineniye Soyuz; —JSC AMRC Soyuz; —OAO AMRC Soyuz; —AESTC Soyuz; and —Soyuz. 2/4 Luzhnetskaya Embankment, Moscow, 119270, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Open Joint Stock Company Balashikhinskiy Liteyno Mekhanicheskiy Zavod, a.k.a., the following seven aliases: —Otkrytoe Aktsionernoe Obshchestvo Balashikhinskiy Liteyno Mekhanicheskiy Zavod; —OAO Balashikhinskiy Liteyno Mekhanicheskiy Zavod; —OJSC Balashikha Gasting-Mechanical Plan; —Balashikha Gasting-Mechanical Plant; —OAO BLMZ; —BLMZ; and —Balashikha. 4 Entuziastov Highway (Zapadnaya Promzona Territory), Balashikha, Moscow Region, 143912, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Open Joint Stock Company Machine Building Plant Arsenal, a.k.a., the following seven aliases: —Otkrytoe Aktsionernoe Obshchestvo Mashinostroitelnyi Zavod Arsenal; —OAO Mashinostroitelnyi Zavod Arsenal; —OJSC Machine Building Plant Arsenal; —Arsenal Machine Building Plant; —MZ Arsenal PAO; —MZ Arsenal OAO; and —MZ Arsenal. 1-3 Komsomola Street, Saint Petersburg, 195009, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Public Joint Stock Company Taganrog Aviation Scientific-Technical Complex named after G.M. Beriev, a.k.a., the following nine aliases: —Public Joint Stock Company Taganrog Aviation Scientific-Technical Complex N.A.G.M. Beriev; —PJSC Taganrog Aviation Scientific-Technical Complex N.A.G.M. Beriev; —Publichnoe Aktsionernoe Obshchestvo Taganrogski Aviatsionny Nauchno Tekhnicheski Kompleks im. G.M. Berieva; —PJSC Tastc N.A. G. M. Beriev; —Beriev Aircraft Company; —Taganrogski Aviatsionny Nauchno-Tekhnicheski Kompleks Im. G.M. Berieva PAO; —TANTK; —Public Joint Stock Company Beriev Aircraft; and —PJSC Beriev. 1 Aviatorov Square, Taganrog, Rostov Region, 347923, Russia; and Novobessergenevka Village, Neklinovski Region, 346842, Russia; and Military Unit 45161, Shchelkovo, Moscow Region, 114104, Russia; and 101V Mira Avenue, Building 1, Moscow, 129085, Russia; and Tyumen Settlement, Tuapse, Krasnodarsk Region, 352848, Russia; and 3 Solnechnaya Street, Gelendzhik, Krasnodarsk Region, 353470, Russia; and Sergeya Shilo Street, Taganrog, Rostov Region, 347939, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Public Joint Stock Company UEC-Ufa Engine Industrial Association, a.k.a., the following fourteen aliases: —Public Joint Stock Company ODK-Ufim Motor-Building Production Association; —Public Joint-Stock Company ODK-Ufimskoye; —PJSC UEC-UMPO; —PAO UEC-UMPO; -ODK-Ufim Motor-Building Production Association; —PJSC ODK-UMPO; —United Engine Manufacturing Corporation—Ufa Engine Building Production Association Public Joint Stock Corporation; —UEC-Ufa Motor-Building Manufacturing Association; —ODK-UMPO Engine Building Enterprise; —Ufa Engine-Manufacturing Company; —ODK-UMPO PAO; —ODK-UMPO Engine Building Association; —Ufa Engine Building Manufacturing Company; and —UEC-UMPO. 2 Ferina Street, Ufa, Republic of Bashkortostan, 450039, Russia; and 4 Selskaya Bogorodskaya Street, Ufa, Republic of Bashkortostan, 450039; and 7 Vishnevaya Street, Moscow, 125362, Russia; and 47/1 Tukhvata Yanabi Boulevard, Ufa, Republic of Bashkortostan, 450043, Russia; and 12 Petrozavodskaya Street, Ufa, Republic of Bashkortostan, 450030, Russia; and 32/3 Volgogradski Avenue, Building 3, Building 11, Moscow, 109316, Russia; and 13 Kasatkina Street, Moscow, 129301, Russia; and Building 9, Lytkarino, Moscow Region, 140080, Russia; and Baigildino Village, Nurimanovski Region, Republic of Bashkortostan, 452443, Russia; and Atamanovka Village, Karaidelski Region, Republic of Bashkortostan, 452377, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
| Severny Reid AO, 1 Pr. Wins, Severodvinsk, Russia; and d. 1 Prospekt Pobedy, Severodvinsk, Arkhangelskaya obl., 164500, Russia. | For all items subject to the EAR. (See §§ 734.9(g),³ 746.8(a)(3), and 744.11 of the EAR) | Policy of denial for all items subject to the EAR. See § 746.8(b) | 89 FR [INSERT FR PAGE NUMBER AND 8/27/2024].
| * * * * * *
TURKEY | * * * * * *
| Address 01, No: 52 Hasat Sk., Kamara Iç Kapi No: 1, Merkez Mah., Sisli, Istanbul, 34381, Turkey. | For items on the CCL and EAR99 items listed in supplement no. 7 to part 746 of the EAR. | Presumption of denial | 89 FR [INSERT FR PAGE NUMBER AND 8/27/2024]
| * * * * * *
| All Global Trading Elektronik Dis Ticaret Ltd Sti, NO:460 Bağdat Caddesi, Iç Kapı NO: 12 Ofis 5 34846, Cevizli Mahallesi Maltepe, Istanbul, Turkey; and No:4 Kosar Street, Pilot Deri Binasi. Iç Kapı No: z01, Aydinli Sb Mahallesi,. Tuzla, Istanbul, Turkey; and No:460/12 Bagdat Caddesi Maltepe, Cevizli Mahallesi, Istanbul (Anatolia), 34846, Turkey; and 225 Sokak, Summer Park Sitesi D Blok, No: 8d/22 Oba Mahallesi, Alanya Antalya 07450 Turkey. (For alternate addresses, see Kazakhstan and Kyrgyzstan.) | For all items subject to the EAR. (See §§ 734.9(g),³ 746.8(a)(3), and 744.11 of the EAR) | Policy of denial for all items subject to the EAR. See § 746.8(b) | 89 FR [INSERT FR PAGE NUMBER AND 8/27/2024].
| * * * * * *
| ASR Trans Lojistik Ve Dis Tic Ltd Sti, a.k.a., the following four aliases: —ASR Transit; —ASR International Trade Dis Tic. Ltd. Şti.; —ASR Trade Grup; and —Clef Trade. Değirmen Sok. No:9, Cemal Bey Is Mrkz. Kat:6 D.: 23/25 Pk:34742, Kozyatagi Mah., Kadiköy—Kadiköy, İstanbul, Turkey; and Degirmen Sk., Cemal Bey Is Merkezi 11 13, Kozyatagi Mah., Kadikoy, Istanbul, Turkey. | For all items subject to the EAR. (See §§ 734.9(g),³ 746.8(a)(3), and 744.11 of the EAR) | Policy of denial for all items subject to the EAR. See § 746.8(b) | 89 FR [INSERT FR PAGE NUMBER AND 8/27/2024].
| * * * * * *
| Biopharmist Medikal Urunler Dis Ticaret LTD STI, a.k.a., the following two aliases: —Biopharmist; and —Biopharmist Medikal. D-134956, Orta Mah. Oztes Sk, No.3, Orhanli, Tuzla, Istanbul, Turkey; and Inonu Mah., 19 Mayis Cd., No 106-5, Atasehir, Istanbul 34755, Turkey. | For all items subject to the EAR (See §§ 734.9(g), 746.8(a)(3), and 744.21(b) of the EAR) | Policy of denial for all items subject to the EAR apart from food and medicine designated as EAR99, which will be reviewed on a case-by-case basis. See §§ 746.8(b) and 744.21(e). | 89 FR [INSERT FR PAGE NUMBER AND 8/27/2024].
| * * * * * *
| BRK Uluslararasi Nakliyat Tic. Ltd. Sti, a.k.a., the following two aliases: —BRK Group Uluslararası Nakliyat ve Ticaret Ltd. Sti; and —BRK Customs Brokerage Ltd Sti. Kocasinan Cad. Kaman Iş Merkezi No:1 Kat:2 Ofis No:7/8, Bahçelievler, İstanbul, Turkey. | For all items subject to the EAR. (See §§ 734.9(g),³ 746.8(a)(3), and 744.11 of the EAR) | Policy of denial for all items subject to the EAR. See § 746.8(b) | 89 FR [INSERT FR PAGE NUMBER AND 8/27/2024].
| BuyBest Electronic, a.k.a., the following three aliases: —Buy Best Electronic Pars; —Buybest Elektronik İthalat İhracat Limited Şirketi; and —Andriman Group İnşaat İthalat İhracat Sanayi Ve Ticaret Limited Şirketi. 19 Mayis mah, Halaskargazi cad, Polat pasaji, No:158, D:96 Şişli, Istanbul, Turkey. (See alternate addresses under China and Iran.) | For all items subject to the EAR. (See § 744.11 of the EAR) | Presumption of denial | 89 FR [INSERT FR PAGE NUMBER AND 8/27/2024].
| * * * * * *
| Confienza Pazarlama Ve Ticaret Anonim Sirketi, a.k.a., the following two aliases: —Confienza Gida Pazarlama Ve Ticaret Anonim Sirketi; and —Confienza. No.10 Cemre Sokak, Bebek Mahallesi, Besiktas Municipality, Istanbul Province, Turkey. | For all items subject to the EAR (See §§ 734.9(g),³ 746.8(a)(3), and 744.11 of the EAR) | Policy of denial for all items subject to the EAR. See § 746.8(b). | 89 FR [INSERT FR PAGE NUMBER AND 8/27/2024].
| * * * * * *
| Turkik Union Dijital Teknoloji Donusum Ofisi, a.k.a., the following alias: —Turkic Union Digital Technology Transformation Office. Block Number 1, Ataturk Cad., Yesilkoy Mah. Bakirkoy, Istanbul, 34149, Turkey; and No: 12 No: 8, Ataturk Cad. Egs Business Park, Bakirkoy, Istanbul, Turkey. | For all items subject to the EAR. (See §§ 734.9(g),³ 746.8(a)(3), and 744.11 of the EAR) | Policy of denial for all items subject to the EAR. See § 746.8(b) | 89 FR [INSERT FR PAGE NUMBER AND 8/27/2024].
| * * * * * *
* * * * * * *
UKRAINE | * * * * * *
| Joint Stock Company Design Bureau of Navigation Systems, a.k.a., the following four aliases: —Design Bureau of Navigation Systems JSC; —Aktsionernoe Obshchestvo Konstruktorskoe Byuro Navigatsionnykh Sistem; —AO Konstruktorskoe Byuro Navigatsionnykh Sistem; and —AO KB Navis. 56 Baidy Vishnevetskogo Street, Sosnovski Region, Cherkasy, Ukraine. (See alternate addresses under Russia.) | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 89 FR [INSERT FR PAGE NUMBER AND 8/27/2024].
| * * * * * *
UNITED ARAB EMIRATES | * * * * * *
| Tehran Pishro Trading Co., New Tara Hotel, Al Musall Road, Al Musall, Dubai, United Arab Emirates. (See alternate addresses under China and Iran.) | For all items subject to the EAR. (See § 744.11 of the EAR) | Presumption of denial | 89 FR [INSERT FR PAGE NUMBER AND 8/27/2024].
| * * * * * *

* * * * *

Thea D. Rozman Kendler,
Assistant Secretary for Export Administration.

[FR Doc. 2024-19130 Filed 8-23-24; 8:45 am]

BILLING CODE 3510-JT-P